DEPARTMENT OF THE INTERIOR

Fish and Wildlife Service

50 CFR Part 32

[Docket No. FWS-HQ-NWRS-2022-0055; FXRS12610900000-223-FF09R20000]

RIN 1018-BF66

2022-2023 Station-Specific Hunting and Sport Fishing Regulations

AGENCY: Fish and Wildlife Service, Interior.

ACTION: Final rule.

SUMMARY: Consistent with the steadfast commitment to allowing access to our National Wildlife Refuges and continued efforts to provide hunting and fishing opportunities, we, the U.S. Fish and Wildlife Service (Service), open, for the first time, two National Wildlife Refuges (NWRs, refuges) that are currently closed to hunting and sport fishing. In addition, we open or expand hunting or sport fishing at 16 other NWRs and add pertinent station-specific regulations for other NWRs that pertain to migratory game bird hunting, upland game hunting, big game hunting, or sport fishing for the 2022-2023 season. We also make changes to existing station-specific regulations in order to reduce the regulatory burden on the public, increase access for hunters and anglers on Service lands and waters, and comply with a Presidential mandate for plain language standards. Finally, while the Service continues to evaluate the future of lead use in hunting and fishing on Service lands and waters, we do not plan to offer any hunting and fishing opportunities that would allow for the indefinite use of lead ammunition and tackle on the refuges included in this year's rulemaking. In this final rule, Patoka River NWR will require non-lead ammunition and tackle by fall 2026, and this refuge-specific regulation will take effect on September 1, 2026. As part of the 2023-2024 proposed rule, Blackwater, Chincoteague, Eastern Neck, Erie, Great Thicket, Patuxent Research Refuge, Rachel Carson, and Wallops Island NWRs will propose a non-lead requirement, which would take effect on September 1, 2026.

DATES: This rule is effective September 15, 2022, except for the amendment to 50 CFR 32.33(c)(1)(iii), which is effective September 1, 2026.

ADDRESSES: This rule and its supporting documents are available on https://www.regulations.gov under Docket No. FWS-HQ-NWRS-2022-0055.

Information collection requirements: Written comments and suggestions on the information collection requirements may be submitted at any time to the Service Information Collection Clearance Officer, U.S. Fish and Wildlife Service, 5275 Leesburg Pike, MS: PRB (JAO/3W), Falls Church, VA 22041-3803 (mail); or Info_Coll@fws.gov (email). Please reference “OMB Control Number 1018-0140”.

FOR FURTHER INFORMATION CONTACT: Kate Harrigan, (703) 358-2440.

SUPPLEMENTARY INFORMATION:

Background

The National Wildlife Refuge System Administration Act of 1966 (16 U.S.C. 668dd-668ee), as amended (Administration Act), closes NWRs in all States except Alaska to all uses until opened. The Secretary of the Interior (Secretary) may open refuge areas to any use, including hunting and/or sport fishing, upon a determination that the use is compatible with the purposes of the refuge and National Wildlife Refuge System (Refuge System) mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review hunting and sport fishing programs to determine whether to include additional stations or whether individual station regulations governing existing programs need modifications. Changing environmental conditions, State and Federal regulations, and other factors affecting fish and wildlife populations and habitat may warrant modifications to station-specific regulations to ensure the continued compatibility of hunting and sport fishing programs and to ensure that these programs will not materially interfere with or detract from the fulfillment of station purposes or the Refuge System's mission.

Provisions governing hunting and sport fishing on refuges are in title 50 of the Code of Federal Regulations at part 32 (50 CFR part 32), and on hatcheries at part 71 (50 CFR part 71). We regulate hunting and sport fishing to:

• Ensure compatibility with refuge and hatchery purpose(s);

• Properly manage fish and wildlife resource(s);

• Protect other values;

• Ensure visitor safety; and

• Provide opportunities for fish- and wildlife-dependent recreation.

On many stations where we decide to allow hunting and sport fishing, our general policy of adopting regulations identical to State hunting and sport fishing regulations is adequate in meeting these objectives. On other stations, we must supplement State regulations with more-restrictive Federal regulations to ensure that we meet our management responsibilities, as outlined under Statutory Authority, below. We issue station-specific hunting and sport fishing regulations when we open wildlife refuges and fish hatcheries to migratory game bird hunting, upland game hunting, big game hunting, or sport fishing. These regulations may list the wildlife species that you may hunt or fish; seasons; bag or creel (container for carrying fish) limits; methods of hunting or sport fishing; descriptions of areas open to hunting or sport fishing; and other provisions as appropriate.

Statutory Authority

The Administration Act, as amended by the National Wildlife Refuge System Improvement Act of 1997 (Improvement Act; Pub. L. 105-57), governs the administration and public use of refuges, and the Refuge Recreation Act of 1962 (16 U.S.C. 460k-460k-4) (Recreation Act) governs the administration and public use of refuges and hatcheries.

Amendments enacted by the Improvement Act were built upon the Administration Act in a manner that provides an “organic act” for the Refuge System, similar to organic acts that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are hunting, fishing, wildlife observation and photography, and environmental education and interpretation.

The Recreation Act authorizes the Secretary to administer areas within the Refuge System and Hatchery System for public recreation as an appropriate incidental or secondary use only to the extent that doing so is practicable and not inconsistent with the primary purpose(s) for which Congress and the Service established the areas. The Recreation Act requires that any recreational use of refuge or hatchery lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop station-specific regulations to ensure the compatibility of the programs with the purpose(s) for which we established the refuge or hatchery and the Refuge and Hatchery System mission. We ensure initial compliance with the Administration Act and the Recreation Act for hunting and sport fishing on newly acquired land through an interim determination of compatibility made at or near the time of acquisition. These regulations ensure that we make the determinations required by these acts prior to adding refuges to the lists of areas open to hunting and sport fishing in 50 CFR parts 32 and 71. We ensure continued compliance by the development of comprehensive conservation plans and step-down management plans, and by annual review of hunting and sport fishing programs and regulations.

Summary of Comments and Responses

On June 9, 2022, we published in the Federal Register (87 FR 35136) a proposed rule to open and expand hunting and fishing opportunities at 19 refuges for the 2022-2023 season. We accepted public comments on the proposed rule for 60 days, ending August 8, 2022. By that date, we received more than 48,000 comments on the proposed rule. More than 75 percent of these comments were form letters or otherwise identical duplicates of other comments on the proposed rule. We discuss the remaining unique comments we received below by topic. Beyond our responses below, additional station-specific information on how we responded to comments on particular hunting or fishing opportunities at a given refuge or hatchery can be found in that station's final hunting and/or fishing package, each of which can be located in the docket for this rule.

Comment (1): We received several comments expressing general support for the proposed changes in the June 9, 2022, rule. These comments of general support either expressed appreciation for the increased hunting and fishing access in the rule overall, expressed appreciation for increased access at particular refuges, or both. In addition to this general support, some commenters requested additional hunting and fishing opportunities.

Our Response: Hunting and fishing on Service lands is a tradition that dates back to the early 1900s. In passing the Improvement Act, Congress reaffirmed that the Refuge System was created to conserve fish, wildlife, plants, and their habitats, and would facilitate opportunities for Americans to participate in compatible wildlife-dependent recreation, including hunting and fishing on Refuge System lands. We prioritize wildlife-dependent recreation, including hunting and fishing, when doing so is compatible with the purpose of the refuge and the mission of the Refuge System.

We will continue to open and expand hunting and sport fishing opportunities across the Refuge System; however, as detailed further in our response to Comment (2), below, opening or expanding hunting or fishing opportunities on Service lands is not a quick or simple process. The annual regulatory cycle begins in June or July of each year for the following hunting and sport fishing season (the planning cycle for this 2022-2023 final rule began in June 2021). This annual timeline allows us time to collaborate closely with our State, Tribal, and Territorial partners, as well as other partners including nongovernmental organizations, on potential opportunities. It also provides us with time to complete environmental analyses and other requirements for opening or expanding new opportunities. Therefore, it would be impracticable for the Service to complete multiple regulatory cycles in one calendar year due to the logistics of coordinating with various partners. Once we determine that a hunting or sport fishing opportunity can be carried out in a manner compatible with individual station purposes and objectives, we work expeditiously to open it.

We did not make any changes to the rule as a result of these comments.

Comment (2): Several commenters expressed general opposition to any hunting or fishing in the Refuge System. Some of these commenters stated that hunting was antithetical to the purposes of a “refuge,” which, in their opinion, should serve as an inviolate sanctuary for all wildlife. The remaining commenters generically opposed expanded or new hunting or fishing opportunities at specific stations.

Our Response: The Service prioritizes facilitating wildlife-dependent recreational opportunities, including hunting and fishing, on Service land in compliance with applicable Service law and policy. For refuges, the Administration Act, as amended, stipulates that hunting (along with fishing, wildlife observation and photography, and environmental education and interpretation), if found to be compatible, is a legitimate and priority general public use of a refuge and should be facilitated (16 U.S.C. 668dd(a)(3)(D)). Thus, we only allow hunting of resident wildlife on Refuge System lands if such activity has been determined compatible with the established purpose(s) of the refuge and the mission of the Refuge System as required by the Administration Act. For all 18 stations opening and/or expanding hunting and/or fishing in this rule, we determined that the proposed actions were compatible.

Each station manager makes a decision regarding hunting and fishing opportunities only after rigorous examination of the available information, consultation and coordination with States and Tribes, and compliance with the National Environmental Policy Act (NEPA; 42 U.S.C. 4321 et seq.) and section 7 of the Endangered Species Act of 1973, as amended (ESA; 16 U.S.C. 1531 et seq.), as well as other applicable laws and regulations. The many steps taken before a station opens or expands a hunting or fishing opportunity on the refuge ensure that the Service does not allow any opportunity that would compromise the purpose of the station or the mission of the Refuge System.

Hunting of resident wildlife on Service lands generally occurs consistent with State regulations, including seasons and bag limits. Station-specific hunting regulations can be more restrictive (but not more liberal) than State regulations and often are more restrictive in order to help meet specific refuge objectives. These objectives include resident wildlife population and habitat objectives, minimizing disturbance impacts to wildlife, maintaining high-quality opportunities for hunting and other wildlife-dependent recreation, minimizing conflicts with other public uses and/or refuge management activities, and protecting public safety.

The word “refuge” includes the idea of providing a haven of safety as one of its definitions, and as such, hunting might seem an inconsistent use of the Refuge System. However, again, the Administration Act stipulates that hunting, if found compatible, is a legitimate and priority general public use of a wildlife refuge. Furthermore, we manage refuges to support healthy wildlife populations that in many cases produce harvestable surpluses that are a renewable resource. As practiced on refuges, hunting and fishing do not pose a threat to wildlife populations. It is important to note that taking certain individuals through hunting does not necessarily reduce a population overall, as hunting can simply replace other types of mortality. In some cases, however, we use hunting as a management tool with the explicit goal of reducing a population; this is often the case with exotic and/or invasive species that threaten ecosystem stability. Therefore, facilitating hunting opportunities is an important aspect of the Service's roles and responsibilities as outlined in the legislation establishing the Refuge System, and the Service will continue to facilitate these opportunities where compatible with the purpose of the specific refuge and the mission of the Refuge System.

We did not make any changes to the rule as a result of these comments.

Comment (3): We received comments from five individual State agencies, across four States, and the Association of Fish and Wildlife Agencies on the proposed rule. The Oregon Department of Fish and Wildlife expressed support for the proposed rule, with a focus on Baskett Slough NWR, without additional comments. The Pennsylvania Fish and Boat Commission expressed support for the proposed rule, with a focus on Erie NWR and including support for the Service's plan to require non-lead tackle use by fall 2026, and the Pennsylvania Game Commission expressed support for the proposed rule, with a focus on Erie NWR, and also urged the Service to inform hunters about the need for feral hog eradication and reporting requirements for feral hog. The Virginia Department of Wildlife Resources expressed general support for the proposed rule and increased access, but also requested the opening of Sunday hunting to align with a recent change in State laws, clarification on regulations concerning the use of hunting dogs and broader allowance of hunting dog use, more specific terminology to describe State law enforcement, and clarification about the information we will provide to hunters and anglers about non-lead ammunition and tackle, and expressed concerns about the Service's approach to refuge-specific plans to require non-lead use and improved coordination between the Virginia Department of Wildlife Resources and the Service. The West Virginia Department of Wildlife Resources expressed support for the increased access through the rule, with a focus on Canaan Valley NWR, but expressed concern about the requirements to use non-lead ammunition under consideration for Canaan Valley NWR and requested that we remove the proposed requirement to harvest a doe prior to harvesting a buck in the Canaan Valley NWR deer hunt. The Association of Fish and Wildlife Agencies expressed general support for increased access for hunters and anglers, but expressed concern about the nine individual refuges considering requirements for non-lead ammunition and non-lead tackle by fall 2026; expressed a desire for collaboration between the Service and State agencies in shaping “challenging” policies such as the use of lead ammunition and tackle; and requested consideration of additional hunting and fishing access on Refuge System lands and waters in Alaska.

Our Response: The Service appreciates the support of, and is committed to working with, our State partners to identify additional opportunities for expansion of hunting and sport fishing on Service lands and waters. We welcome and value State partner input on all aspects of our hunting and fishing programs.

In response to the Pennsylvania Game Commission, we agree that it is important to inform hunters about the need for feral hog eradication and reporting requirements for feral hog. We will do so through our existing informational and educational materials for hunters, as appropriate.

In response to the Virginia Department of Wildlife Resources, the Service will make some, but not all, requested changes, and we are committed to continued collaboration and coordination. As to Sunday hunting, the change to Virginia law happened too recently for Sunday hunting changes to have been incorporated into the proposed rule. Now that the Service has been able to consider Sunday hunting for refuges in this rulemaking, the Service will allow Sunday hunting on Wallops Island NWR but will not allow Sunday hunting at Chincoteague NWR as it would not be compatible with other uses of the refuge.

As to the use of hunting dogs, the Service will revise our regulations for the Virginia refuges in this final rule to clarify that hunting dogs can be used for migratory bird hunting for all appropriate tasks (e.g., flushing, pointing), not only retrieval. The Service will not, however, expand the use of hunting dogs beyond migratory bird hunting to include other upland game or big game because this limitation on dog use is necessary to protect species of concern, including Delmarva fox squirrel (Sciurus niger cinereus). Additionally, the Service is not making any changes to current regulations concerning where hunting dogs are allowed (i.e., no pets, including hunting dogs, are allowed on the Assateague Island portion of Chincoteague NWR).

As to terminology for State law enforcement, the Service has updated our hunt planning documents to refer specifically to Conservation Police Officers for the refuges in Virginia in this rulemaking. We will also use this terminology going forward for planning at Virginia refuges.

As to the topic of lead use generally, the Service values the Virginia Department of Wildlife Resources' input and continued coordination. First, the Service's plan to require non-lead ammunition by fall 2026 at two individual refuges in Virginia, which the Service will propose in next year's rulemaking, fits the criteria that the Virginia Department of Wildlife Resources suggests because the planned requirements are both refuge-specific and supported by science. This is true for all nine refuges where the Service has finalized or will propose non-lead ammunition and non-lead tackle requirements. Second, the Virginia Department of Wildlife Resources is correct that our hunter and angler education will include both information about the benefits of using non-lead ammunition and tackle and information about best practices for hunters and anglers to follow that can reduce the risk of lead impacts to wildlife (e.g., removing or burying gut piles). Finally, we agree that further conversations between the Virginia Department of Wildlife Resources and the Service are beneficial, needed, and welcomed. The Service developed the opportunities in this rulemaking in discussion with the Virginia Department of Wildlife Resources and in the interest of the people of Virginia. Going forward, the Service will continue to work with the Virginia Department of Wildlife Resources in shaping all of our proposed opportunities for the next annual rulemaking, including planned regulations that will require the use of non-lead ammunition and tackle at Chincoteague and Wallops Island NWRs by fall 2026, and will continue to coordinate and partner with the Virginia Department of Wildlife Resources on all of our future regulations affecting Service lands and waters within Virginia.

In response to the West Virginia Department of Wildlife Resources' request, we have withdrawn all of the proposed changes for hunting and fishing at Canaan Valley NWR, including the prioritization of does over bucks in deer hunting. The Service may revisit all or some of the proposed changes in a future rulemaking, but at this time further discussion and coordination with the State is necessary.

In response to the Association of Fish and Wildlife Agencies, we have not made any modifications to the rule. On the topic of lead ammunition and tackle use, see our response to Comment (6), below, for our responses to the reasoning of the Association and other commenters for their opposition to our plan to require non-lead ammunition and tackle by fall 2026 at nine individual refuges. On the topic of collaboration with State agencies in determining the regulations and policies governing lead ammunition and tackle use on the Refuge System, we welcome such coordination and collaboration. The non-lead requirement at Patoka River NWR that we are implementing through this rulemaking and the planned non-lead use requirement that we will propose in next year's rulemaking for the eight individual refuges, all effective in the fall of 2026, were shaped with consideration of involved discussions with State agencies throughout the process. Going forward, we will continue to invite input and involvement from our State partners as we continue to evaluate the future of lead use on Service lands and waters as the first step in an open and transparent process of finding the best methods of addressing lead's impact to human and ecological health. On the topic of Alaska, we note that a key difference from other States is that refuges in Alaska are open to all hunting and fishing uses until closed under the Alaska National Interest Lands Conservation Act (ANILCA; 16 U.S.C. 3111-3126). Where we have closed opportunities or limited the use in comparison to State regulations, we promulgate those regulations under 50 CFR part 36. We work closely with the Alaska Department of Fish and Game when making these determinations and in assessing the continued need for regulations.

Comment (4): We received a comment from the Mi'kmaq Nation that focused on Rachel Carson NWR and Great Thicket NWR. The comment expressed no concerns about the proposed rule content and inquired about cultural use and hunting access for Tribal members.

Our Response: The Service appreciates the support of our Tribal partners and is committed to working with our Tribal partners. As noted in the November 2021 Joint Secretarial Order (S.O. 3403), the Department of the Interior is committed, alongside the Department of Agriculture, to fulfilling our trust responsibility to Tribes in our management of Federal lands and waters. The Service seeks input from Tribes throughout our hunting and fishing rulemaking processes and welcomes every opportunity to coordinate with Tribal leaders.

In response to the Mi'kmaq Nation comment, we look forward to further discussion and coordination on cultural use and access.

Comment (5): The majority of commenters expressed concern over the use of lead ammunition and/or lead fishing tackle on Service lands and waters. This included multiple campaigns of duplicate comments and totaled over 30,500 comments. Nearly all of these commenters expressed support for the nine refuges in this rulemaking, which are requiring or planning to require non-lead ammunition and non-lead tackle by fall 2026. Some of these commenters urged the Service to reduce the length of the contemplated 4-year lead use period before the 2026 effective date of the refuge-specific non-lead requirements. Most of these commenters urged the Service to eliminate, whether immediately or after a set transition period, the use of lead ammunition and tackle throughout the Refuge System. Many commenters expressed concerns about raptor species, including the bald eagle (Haliaeetus leucocephalus), and other species that scientific studies have shown to be especially susceptible to adverse health impacts from lead ammunition and tackle. One commenter urged the Service to mitigate potential impacts to anglers from non-lead tackle requirements through means such as partnering with fishing tackle retailers.

Our Response: The Service appreciates the concerns from commenters about the issue of bioavailability of lead in the environment and is aware of the potential impacts of lead on fish and wildlife. See, for example, the recent study from the U.S. Geological Survey (USGS) with Service collaboration, Vincent Slabe, et al. “Demographic implications of lead poisoning for eagles across North America,” which is available online at https://www.usgs.gov/news/national-news-release/groundbreaking-study-finds-widespread-lead-poisoning-bald-and-golden. Accordingly, the Service pays special attention to species susceptible to lead uptake and to sources of lead that could impact ecological and human health.

Historically, the principal cause of lead poisoning in waterfowl was the high densities of lead shot in wetland sediments associated with migratory bird hunting activities (Kendall et al. 1996). In 1991, as a result of high bird mortality, the Service instituted a nationwide ban on the use of lead shot for hunting waterfowl and coots (see 50 CFR 32.2(k)). However, lead ammunition is still used for other types of hunting, and lead tackle is used for fishing on private and public lands and waters, including within the Refuge System.

Due to the continued lead use outside of waterfowl hunting, there remains concern about the bioavailability of spent lead ammunition (bullets) and fishing tackle on the environment, the health of fish and wildlife, and human health. The Service is aware of fish and wildlife species, including endangered and threatened species, that are susceptible to biomagnification of lead from their food sources or secondhand through the food ingested by their food sources. There is also evidence that some species are susceptible to direct ingestion of lead ammunition or tackle due to their foraging behaviors. For example, the Service recognizes that ingested lead fishing tackle has been found to be a leading cause of mortality in adult common loons (Grade, T. et al., 2017, in Population-level effects of lead fishing tackle on common loons. The Journal of Wildlife Management 82(1): pp. 155-164). The impacts of lead on human health and safety have been a focus of several scientific studies. We are familiar with studies that have found the ingestion of animals harvested via the use of lead ammunition increased levels of lead in the human body (e.g., Buenz, E. (2016). Lead exposure through eating wild game. American Journal of Medicine, 128: p. 458).

It is because of lead's potential for ecological health impacts that in this rulemaking the Service has, as stated in the proposed rule, taken a “measured approach in not adding to the use of lead on refuge lands” (see 87 FR 35136, June 9, 2022, at p. 35136). The opportunities in this final rule either do not involve the use of ammunition or tackle (i.e., archery hunting), require the use of non-lead ammunition or tackle, or are being authorized at refuges that will require the use of non-lead ammunition or tackle by fall 2026. This measured approach is also part of the Service's larger commitment to evaluating the use of lead in order to determine what is the best course for the future of lead use throughout the Refuge System, whether lead use is addressed going forward through non-lead requirements or a different method (or methods), including, but not limited to, national action, individual refuge actions, or some combination.

In response to commenters' position that 4 years is too long for non-lead use requirements at individual stations to take effect, the Service did not make any changes to the rule. Each individual station that will require or is planning to require non-lead ammunition and tackle starting in fall 2026 determined that this timing would best serve the refuge's objectives, capacities, purposes, and mission. These determinations were made to the exclusion of both shorter and longer time frames for hunters, and anglers as appropriate, to transition to the use of non-lead equipment. These determinations were made with consideration of all impacted parties (e.g., refuge wildlife, hunters and anglers, other visitors, refuge law enforcement) and balancing the Service's interest in reducing the potential for adverse lead impacts against the Service's interest in not placing an undue compliance burden on hunters and anglers. If, in the future, the Service sets any non-lead requirement timetables for one or more refuges, we will similarly consider the input of all relevant stakeholders and the impacts of our decision on all relevant stakeholders as we weigh the competing interests and reach the determination that best serves the public interest.

In response to the commenters' suggestion that the Service partner with fishing tackle retailers, the Service recognizes that private companies have a role to play in hunters and anglers transitioning from the use of lead to the use of non-lead alternatives and we appreciate anything that manufacturers, retailers, and other industry participants can do to make using non-lead alternatives for both tackle and ammunition easier for hunters and anglers. The Service is open to input from and appropriate coordination with private industry as part of a transparent process in determining the future of lead use on Service lands and waters and meeting the needs of hunters and anglers.

In response to the commenters urging the Service to eliminate the use of lead ammunition and fishing tackle throughout the Refuge System, the Service is committed to doing what best serves the public interest and our conservation mission, including facilitating compatible wildlife-dependent recreational hunting and fishing. As we committed to do in our 2021-2022 rulemaking (see 86 FR 48822, August 31, 2021, at p. 48830), the Service has been evaluating and is continuing to evaluate lead use in hunting and fishing on Service lands and waters. As indicated in our proposed rule (see 87 FR 35136, June 9, 2022, at p. 35136), the reason this rule is crafted such that it is not expected to add to the use of lead on refuges beyond 2026 is so that the Service can continue to evaluate the future of lead use and to seek input from partners as we conduct a transparent process to determine what actions and methods are appropriate for addressing lead's potential for adverse environmental and ecological health impacts.

We did not make any changes to the rule as a result of these comments.

Comment (6): A substantial number of commenters expressed opposition to the Service requiring the use of non-lead ammunition and/or fishing tackle on Service lands and waters. This included multiple campaigns of duplicate comments and totaled over 16,700 comments. Many of these commenters simply expressed a general opposition to the concept of such requirements at the nine refuges implementing or planning to propose non-lead use requirements and/or at any refuge, but the rest put forward one or more points in arguing against non-lead ammunition and/or tackle requirements. The dozen concerns collectively expressed by these more substantive comments are addressed in Comment (7) through Comment (19), below.

Our Response: The Service has allowed, and with the promulgation of this rule continues to allow, the use of lead ammunition and/or tackle in hunting and sport fishing in the Refuge System. The vast majority of stations and the vast majority of individual hunting and fishing opportunities currently permit lead use, which is in keeping with our general alignment to State regulations, as the vast majority of States permit the use of lead ammunition and tackle. Lead ammunition and tackle are currently allowed where we have previously determined the activity is not likely to result in dangerous levels of lead exposure. However, the Service has made clear that we take the issue of lead use seriously, and as the stewards of the Refuge System, we are evaluating what is best for the resources belonging to the American public regarding the future use of lead ammunition and tackle on Service lands and waters. The best available science, analyzed as part of this rulemaking, demonstrates that lead ammunition and tackle have negative impacts on both human health and wildlife, and those impacts are more acute for some species.

We did not make any changes to the rule as a result of these comments.

Comment (7): Many of the comments opposed to regulations concerning the use of lead ammunition and tackle questioned the sufficiency of scientific support for non-lead requirements. Some of the commenters also claimed there is a lack of scientific evidence of “population-level” lead impacts and this means non-lead requirements are unwarranted, including one comment suggesting that “population-level” impact requires “a species-specific population decline.”

Our Response: We refer commenters concerned about scientific evidence in support of the rulemaking to the analyses of environmental impacts in the NEPA and ESA section 7 documentation for each refuge in the rulemaking. In particular, see the documents for Patoka River NWR where a non-lead requirement, with an effective date in fall 2026, is being added to our regulations. For our NEPA and ESA Section 7 analyses, we considered peer-reviewed scientific studies evaluating the impacts of lead to humans, to wildlife generally, and to specific species—including endangered and threatened species and species especially susceptible to lead ammunition or tackle exposure. While this evidence is not determinative as to whether non-lead ammunition and tackle should be required in all cases, given the full range of factors to consider on the topic of lead use, it is inaccurate to claim that there is no scientific evidence of adverse impacts to human or ecological health from lead ammunition and tackle or that the Service has not presented such evidence as part of this rulemaking in support of the intentions of the nine individual refuges that plan to require use of non-lead by fall 2026. Each refuge in this rule used the best available science and the expertise and sound professional judgment of refuge staff to determine that our management strategies, including promulgated and intended non-lead requirements, are based in sound science and the specific circumstances of that individual refuge.

Moreover, we also reject the related claim that scientific evidence of so-called “population-level” impacts to wildlife is both a prerequisite to Service action and lacking in the available science. Depending on the situation, we may manage wildlife at the “population level” or at the “individual level,” such as acting to protect endangered and threatened species, since their listed status may make the health of each individual important to preventing extinction. Similarly, depending on the situation, we may adopt regulations, policies, or practices that respond to or prevent adverse impacts at the population level or to individual animals and plants. In fact, there are clear cases where we need to act preventatively or early to control invasive species, pests, or animal diseases, since they are much more difficult to eradicate when there is “population-level” damage. “Population-level” impacts are not necessary for regulation to the exclusion of any other factors, although in the past the Service and others have regulated lead use based, at least in part, on addressing impacts to whole populations, as demonstrated impacts to waterfowl populations and the population of California condors prompted the 1991 nationwide prohibition on waterfowl hunting with lead ammunition and the 2019 prohibition on hunting with lead ammunition in California, respectively. In any case, the scientific literature demonstrates that lead use has “population-level” impacts.

There is evidence of population-level impacts and potential population-level impacts to waterfowl and upland game bird species from lead fishing tackle and lead ammunition through direct ingestion. Lead fishing tackle presents a risk of lead poisoning to many waterfowl species, including loons and swans (Pokras and Chafel 1992; Rattner et al. 2008; Strom et al. 2009). The primary concerns are discarded whole or fragmented lead sinkers, as well as other lead tackle and even lead ammunition released into the water, that rest on river and lake bottoms where diving birds ingest them alongside pebbles, as pebbles are necessary to break down food through grinding in their digestive systems. This results in lead poisoning because the grinding action breaks down the pieces of ingested lead into fine lead particles inside of the birds that can then enter their blood streams. Studies have consistently found impacts of ingested lead fishing tackle are a leading cause of mortality in adult common loons (Pokras and Chafel 1992; Scheuhammer and Norris 1995; Franson et al. 2003; Pokras et al. 2009; Grade et al. 2017; Grade et al. 2019). Strom, et al., assessed lead exposure in Wisconsin birds and found that approximately 25 percent of the trumpeter swan fatalities from 1991 through 2007 were attributed to ingested lead (Strom et al. 2009). Also, lead ammunition discarded on land presents a similar risk of lead poisoning from upland game birds swallowing discarded ammunition alongside the pebbles they use for digestion.

Another source of population-level impacts and potential population-level impacts from lead is indirect ingestion by birds of prey and other scavengers from consuming animals shot with lead ammunition. The primary concerns for birds of prey are lead fragments from lead ammunition that remains in the carcasses and gut piles of hunted animals that are scavenged by these birds. The fine fragments of lead, observable in x-rays of harvested game animals, are ingested because they are embedded in the meat and other animal tissues being scavenged and then enter the digestive systems and blood streams of the birds of prey. Many studies have looked at the impacts of this lead exposure to eagle health (see, e.g., Kramer and Redig 1997; O'Halloran et al. 1998; Kelly and Kelly 2005; Golden et al. 2016; Hoffman 1985a, 1985b; Pattee 1984; Stauber 2010). This includes the recent study, published in 2022, from the USGS with Service collaboration, Vincent Slabe, et al. “Demographic implications of lead poisoning for eagles across North America,” which is available online at https://www.usgs.gov/news/national-news-release/groundbreaking-study-finds-widespread-lead-poisoning-bald-and-golden. This study explicitly finds that lead poisoning is “causing population growth rates to slow for bald eagles by 3.8 percent and golden eagles by 0.8 percent annually.” These growth slowing impacts to populations are statistically significant and, in the case of bald eagles, are occurring for a species that was previously endangered and is still in the process of recovering to historical levels. Thus, it is inaccurate to claim there are not known “population-level” impacts from lead use.

One commenter proposes a definition that would leave out these effects to eagles in claiming that “population-level” impact requires “a species-specific population decline.” This definition, however, is flawed in specifying that a species must be in overall decline because overall decline tells us nothing about the amount of impact, and even the amount of impact must be considered in a larger context. First, the exact same size of adverse impact from lead use to a population can be present whether the species is in decline, stable, or growing overall because many other factors impact populations. To illustrate, a − 3 percent impact to a species from lead could reduce growth if other factors produce 5 percent growth (5 − 3 = 2); could prevent growth if other factors produce 3 percent growth (3 − 3 = 0); and could increase decline if other factors produce a 1 percent decline (−1−3 = −4). Second, for similar reasons, in the case of impacts of different sizes there could be a larger impact to a species experiencing overall growth than to a species experiencing an overall decline. To illustrate, a large −5 percent impact might not be part of an overall decline, such as when the species would otherwise be growing at 7 percent (7 − 5 = 2), while a smaller −0.01 percent impact might be part of an overall decline, such as when the species would otherwise be declining at −3 percent (−3−0.01 = −3.01). Thus, overall decline alone tells us nothing about the impact of lead use, or any other individual factor, on a species population. Furthermore, the Service would not rely even on the size of the impact to a population alone, as the same impact can be of greater or lesser concern depending on the status of the species (e.g., abundant species, recovering species, endangered or threatened species), the source of the impact (i.e., inherent sources such as gun noise and hunter foot traffic or dispensable sources such as lead use, off-road vehicles, and litter), the trade-offs involved in addressing the impact (i.e., impediments to conservation are prioritized over costs to hunters and anglers, which are prioritized over costs to commercial users, in terms of avoiding trade-offs), and other factors. These are the reasons why the Service does not let our decision making, when addressing impacts to wildlife health, rely solely on this vague concept of “population-level” impacts.

We did not make any changes to the rule as a result of these comments.

Comment (8): Many commenters opposed the regulation of lead use, and also many commenters who took a neutral position on the regulation of lead use stated that the Service must allow for and consider the input of hunters and anglers on non-lead requirements. This included many in both groups who are themselves hunters and anglers. Some expressed a concern that hunter and angler input was not considered in this rulemaking.

Our Response: Individual refuges always take the input of hunters and anglers into account in shaping their hunting and fishing programs, including through formal opportunities for public review and comment. We are in constant communication with hunters and anglers who visit the refuge through hunter education programs and listening sessions on many important topics. All of the provisions of this final rulemaking, including nine refuges enacting or planning requirements for non-lead ammunition and non-lead tackle by fall 2026, were shaped with the input of hunters, anglers, and nongovernmental organizations representing them. They were also shaped with consideration of the impacts to and interests of hunters and anglers. Among the comments on this rule, we received many supportive as well as critical comments from hunters, anglers, and nongovernmental organizations representing them, including comments from hunters and anglers in support of regulating the use of lead on the entire Refuge System. We remain committed to increasing access for hunters and anglers throughout the Refuge System, which is what this rulemaking does in opening and expanding opportunities at 18 refuges. We are also committed to ensuring that hunters and anglers have input on and a “seat at the table” in shaping any future non-lead requirements within the Refuge System.

We did not make any changes to the rule as a result of these comments.

Comment (9): Many commenters opposed to requirements to use non-lead ammunition and tackle claimed non-lead ammunition and non-lead tackle are more expensive in comparison to lead ammunition and tackle. Some of these commenters further expressed the concern that non-lead ammunition and tackle requirements “price people out” of participating in hunting and fishing.

Our Response: In response to commenters who claimed the costs of non-lead ammunition and non-lead tackle would “price people out” of participating in hunting and fishing, we do not agree that non-lead ammunition and tackle are prohibitively expensive, especially in comparison to lead ammunition and tackle. Yet, we recognize that there could be some cost burden of compliance for hunting and fishing opportunities where non-lead ammunition or tackle is required. For example, non-lead ammunition is very close in price to premium lead ammunition but can be more expensive than some lead ammunition. Where we have restricted lead use in the past or through this rulemaking, we first ensure that the ecological health and conservation benefits outweigh any potential for cost burden on hunters and anglers. We are confident that non-lead ammunition and tackle are not cost-prohibitive as hunting and angling continues on all Refuge System stations where we have restricted lead use. Moreover, we have not seen declines in hunting use attributable to non-lead ammunition requirements. In other words, hunting-use day declines at stations that require non-lead ammunition do not appear to deviate from general trends of declining hunting participation that affect all stations in the Refuge System. We similarly have not seen growth slowed at stations requiring non-lead tackle such that it is out of step with general growth trends in angler participation. In fact, there has been a continuous trend for years of decreasing prices for non-lead ammunition and tackle alternatives, and the 1991 nationwide ban on lead ammunition for waterfowl hunting shows that regulations can spur innovation and production that bring the prices down for non-lead options.

Finally, even though the cost burden of compliance with non-lead ammunition and tackle requirements on individual refuges is not onerous, the Service is considering potential giveaway and exchange programs to help hunters and anglers transition from lead to non-lead ammunition and tackle. For example, such programs are discussed in the planning documents for Patoka River NWR as non-lead ammunition and tackle will be required for all hunting and fishing on that refuge beginning in fall 2026. The Service would target such programs toward low-income and subsistence hunters and anglers who stand to be most impacted by any additional costs in obtaining non-lead rather than lead ammunition and tackle. We look forward to working closely with our State and hunting and fishing organizations partners to potentially implement future programs of this nature as part of a transparent process.

We did not make any changes to the rule as a result of these comments.

Comment (10): Many commenters opposed to non-lead ammunition and tackle requirements observed that there is limited availability of non-lead ammunition and non-lead tackle and that less availability, relative to lead ammunition and tackle, would prevent people from participating in hunting and fishing. Some of these commenters further noted that the availability of non-lead ammunition is more limited for older models of firearms than it is for firearms generally. A few commenters also, tangentially to the topic of availability, claimed that the Gun Control Act of 1968 (GCA; 18 U.S.C. 921 et seq.) and associated Bureau of Alcohol, Tobacco, Firearms and Explosives (ATF) regulations concerning armor piercing ammunition hinder the production and thus availability of non-lead ammunition

Our Response: We do not agree that non-lead ammunition and tackle are insufficiently available to hunters and anglers in localities where we have in the past or through this rulemaking restricted the use of lead ammunition or tackle. Yet, we recognize that there could be some compliance burden in identifying and locating non-lead ammunition and tackle for hunting and fishing opportunities where required. Where we have restricted lead use in the past or through this rulemaking, we first ensure that the ecological health and conservation benefits outweigh any potential for compliance burden on hunters and anglers, including the ease of locating available non-lead ammunition and tackle. As with the costs of non-lead options, for opportunities where non-lead ammunition and tackle are required, the Service has not seen declines in hunting or fishing participation that can be attributed to non-lead ammunition and tackle being less widely available than lead ammunition and tackle. Also, as with costs, there are existing trends of increasing availability of non-lead alternatives and the 1991 national ban on lead ammunition for waterfowl hunting demonstrates that regulations requiring the use of non-lead ammunition can promote increased availability. Finally, the Service is considering giveaways and exchanges that would assist hunters and anglers in adjusting from lead ammunition and tackle to non-lead alternatives and this would, as with concerns about costs, address concerns about availability. For example, such programs are discussed in the planning documents for Patoka River NWR as non-lead ammunition and tackle will be required for all hunting and fishing on that refuge beginning in fall 2026. The Service would target such programs toward low-income and subsistence hunters and anglers, as well as hunters and anglers in locations where the available non-lead ammunition and tackle is especially limited, since these groups stand to be most impacted by any availability challenges to obtaining non-lead rather than lead ammunition and tackle. We look forward to working closely with our State and hunting and fishing organization partners to potentially implement future programs of this nature as part of a transparent process.

Additionally, with respect to certain older models of firearm, as well as certain calibers, the availability of non-lead ammunition is more limited than the availability of non-lead ammunition in general. Where lead use is restricted, this could theoretically be an obstacle to participation in certain hunting opportunities based on method of take restrictions. However, non-lead options are already increasing and can be expected to continue to increase, including options for older firearm models and less commonly used calibers. In the case of the nine individual refuges in this rule that require or will propose to require non-lead ammunition use by fall 2026, appropriate non-lead ammunition is available for each type of hunting (i.e., migratory bird, upland game, and big game) and each individual hunting opportunity such that hunters will still be able to participate in all of the opportunities at these refuges. In the future, the Service will remain cognizant of the need to be sure that there are appropriate non-lead options in the market for any given opportunity for which we decide to require non-lead ammunition. We will also ensure the same for fishing opportunities and non-lead fishing tackle.

Finally, the claim that the Gun Control Act of 1968 (GCA) and associated ATF regulations concerning armor piercing ammunition hinder the production and thus availability of non-lead ammunition is beyond the scope of this rulemaking. Moreover, the Service lacks any authority to change provisions of the GCA or associated ATF regulations. The Service does, however, believe that the ATF's existing framework for exemptions to the definition of armor piercing ammunition for ammunition that is “primarily intended to be used for sporting purposes,” as explicitly authorized by the GCA, should be sufficient to allow for the availability of non-lead ammunition for hunters (see the ATF Special Advisory available online at: https://www.atf.gov/news/pr/armor-piercing-ammunition-exemption-framework).

We did not make any changes to the rule as a result of these comments.

Comment (11): Some commenters objecting to non-lead ammunition and tackle requirements claimed non-lead ammunition and non-lead tackle do not perform as effectively as lead ammunition and lead tackle.

Our Response: We do not agree and find that non-lead ammunition and tackle performs at least as effectively as lead ammunition and tackle. Some hunters and anglers on the Refuge System currently use non-lead ammunition and tackle, both voluntarily and as required by regulation, without any documented difference in success rates. In fact, the Service has, by policy since 2016, used non-lead ammunition for wildlife management when lethal control is necessary and has not found the performance of non-lead ammunition to impede these management activities in any way. As part of our hunter education efforts, many refuges offer field demonstrations of the effectiveness of non-lead ammunition. The Service has one such demonstration scheduled on September 16, 2022, at Blackwater NWR, one of the refuges in this rule that intends to require non-lead use by fall 2026. Scientific studies of effectiveness have backed up this informal empirical evidence and found that non-lead ammunition performs as effectively as lead ammunition (see “Are lead-free hunting rifle bullets as effective at killing wildlife as conventional lead bullets? A comparison based on wound size and morphology,” Trinogga, et al., Science of The Total Environment. Volume 443, 15 January 2013, pp. 226-232. Available online 25 November 2012. and “Performance of Lead-Free versus Lead-Based Hunting Ammunition in Ballistic Soap,” Gremse, et al., PLoS One. 2014; 9(7): e102015. Published online 2014 Jul 16.). There is no scientific evidence for the claimed differences in performance between non-lead and lead ammunition and tackle available on the market today. In fact, non-lead ammunition has a demonstrable advantage in that hunters kill only what they shoot because unlike lead ammunition, non-lead ammunition will not poison non-target species. Where the Service restricts the use of lead on the Refuge System, there is no compliance burden on hunters and anglers in the form of reduced performance of ammunition or tackle.

We did not make any changes to the rule as a result of these comments.

Comment (12): Some commenters opposed to non-lead ammunition and tackle requirements argued that any switching from lead ammunition and tackle to non-lead ammunition and tackle should be voluntary. Among these commenters advocating that the use of non-lead ammunition should remain voluntary were both those who felt there is a need for large-scale uptake of non-lead ammunition and tackle and those who felt it should be simply a preference decision for each hunter and angler. A few commenters further expressed that voluntary uptake of non-lead ammunition and tackle should be encouraged through hunter education and/or economic incentives for hunters to transition to non-lead options.

Our Response: In response to these commenters who argued the Service should encourage hunters and anglers to voluntarily transition to non-lead ammunition and tackle rather than implement any regulatory requirements to use non-lead ammunition and tackle, the Service has encouraged and will continue to encourage voluntary use of non-lead ammunition and tackle but will also impose regulatory requirements when and where necessary. Looking backward, the Service has for years encouraged voluntary use of non-lead ammunition and tackle through our hunter and angler education programs, which has included providing scientific information about the harm lead can do and demonstrating the performance of non-lead ammunition. Voluntary adoption of non-lead ammunition and tackle is an excellent way for hunters and anglers to demonstrate commitment to the ideals of not harming non-target species, fair chase, and serving as the original conservation stewards of our country's natural resources. The Service appreciates each and every one of the hunters and anglers who have voluntarily made the switch to non-lead ammunition and tackle, whether for their own health, their family's health, or the health of wildlife. Going forward, the Service is implementing a non-lead requirement at Patoka River NWR through this rulemaking and planning similar regulations in the next annual rulemaking for eight other refuges, all of which would require non-lead ammunition and tackle beginning in the fall of 2026, but for the vast majority of hunting and fishing opportunities in the Refuge System there are no current or planned non-lead use requirements and the Service will continue to urge voluntary use of non-lead ammunition and tackle. While the Service is in the process of evaluating the future of lead use, even if our determination were ultimately that lead use on the Refuge System needs to end, the Service would still consider all viable methods for achieving that outcome, including encouraging voluntary transition to non-lead ammunition and tackle. At the same time, we note that years of efforts toward educating hunters and encouraging non-lead use by the Service and other organizations have not yielded significant uptake of non-lead ammunition and tackle, despite some localized success stories.

Moreover, the commenters' suggestion of providing incentives is not an appropriate solution for increasing voluntary uptake because it would be difficult and costly to construct a fair, targeted incentive structure for individual hunters and anglers and because there would be moral hazard problems in incentivizing members of the public to represent themselves as a hunter or angler who uses lead ammunition or tackle. The potential giveaway and exchange programs mentioned in response to Comment (9) and Comment (10) are a similar but better approach in that they remove costs and other frictions in transitioning to non-lead ammunition and tackle, without the overhead or moral hazard problems of a system of incentives. These programs under our consideration need not be limited to use with non-lead regulatory requirements but could potentially be used to further voluntary uptake or other method(s) of addressing lead issues.

The Refuge System, and all Service lands and waters, are different from private and State lands. We have a legal requirement to consider the compatibility of new and ongoing hunting and fishing activities and assess the potential impact of these activities on the natural resources under our jurisdiction. Although, voluntary uptake may be part of a future with multiple methods of addressing lead use issues, the history of low compliance with voluntary adoption of non-lead ammunition and tackle prompts the Service to consider regulatory requirements to ensure compatibility. At this time, the Service is continuing to evaluate the future of lead use and will soon seek input through an open and transparent process from a broad array of partners and stakeholders about how best to secure the appropriate future for the use of lead. We invite ideas and coordination from all the organizations that commented recommending voluntary uptake and/or are engaged in efforts to encourage volunteer uptake of non-lead ammunition and tackle.

We did not make any changes to the rule as a result of these comments.

Comment (13): One commenter opposed to non-lead ammunition and tackle requirements noted that huntable State and Federal lands can be adjacent to each other and even “intermingled,” which could potentially create enforcement and compliance issues where State and Federal lands that border each other have differing ammunition requirements. Specifically, the commenter seemed concerned about situations where hunting lands on which lead ammunition is allowed under State regulations borders hunting lands on which non-lead ammunition is required under Service regulations.

Our Response: In response to the commenter's concern about differing regulations on adjacent lands, the Service is prepared to meet the added enforcement challenge and the compliance burden is reasonable. Through our compatibility determinations for hunting at each refuge requiring or planning to require the use of non-lead ammunition by fall 2026, we have determined that we have the law enforcement capacity to administer the hunting in this rulemaking under non-lead requirements, including where our hunting units border hunting areas administered under State regulations that allow lead use. As noted in response to Comment (2), Service lands are often subject to more restrictive regulations than lands governed by State regulations and thus our law enforcement personnel are familiar with and trained to handle effective and fair enforcement along land borders where State and Service regulations differ. Service law enforcement personnel are also specifically familiar with enforcement of non-lead ammunition requirements because some refuges have already independently adopted these requirements for one or more types of hunting and all refuges are subject to the national ban on the use of lead ammunition to hunt waterfowl. Moreover, in the case of the non-lead requirements effective fall 2026 implemented or planned in conjunction with this rulemaking, all refuge staff will have approximately 4 years to prepare and train to assist, including through hunter education, all hunters visiting those nine refuges in complying with the promulgated and planned non-lead ammunition requirements.

On the compliance side, similarly, hunters planning to hunt on refuges planning to require non-lead ammunition and tackle by fall 2026, who are not already voluntarily using non-lead ammunition, will have 4 years in which to transition their equipment and become familiar with the requirements. In some cases, these hunters may also be able to benefit from giveaways or exchanges as they transition their supplies, and all of these hunters will have the benefit of hunter education available to them from the refuges. Other hunters who are planning to hunt on State lands near borders between State and Refuge System lands where regulations concerning lead ammunition differ will have to be wary of land borders if they choose to use lead ammunition, although this is something hunters must already do where refuge regulations differ in other respects or where huntable lands are adjacent to lands where hunting is prohibited. Moreover, these hunters can be absolutely assured of compliance even if they cross the border onto refuge lands by simply choosing to use non-lead ammunition. In the future, the Service will similarly provide transition periods, as appropriate, to both allow time to prepare for enforcement and ease the compliance burden on hunters if we introduce non-lead requirements, including where adjacent State-regulated lands allow lead use.

We did not make any changes to the rule as a result of this comment.

Comment (14): Some commenters opposed to non-lead ammunition and tackle requirements called attention to other sources of lead in the environment, besides hunting and fishing with lead ammunition and tackle, and stated that because these sources could cause negative health impacts for fish and wildlife the Service should not have any non-lead ammunition and tackle requirements within the Refuge System.

Our Response: While there are of course other sources of lead in the environment, including other sources that may be bioavailable to wildlife, the Service does not see this as diminishing the importance or conservation benefits of requiring the use of non-lead ammunition and tackle, when and where necessary. These comments collectively provide the following list of possible sources, besides lead ammunition and tackle used for hunting and fishing, of environmentally available lead: naturally occurring lead in the ground; lead paint, particularly on water towers and fire lookout towers; micro-trash, particularly discarded hardware and ammunition; lead ammunition used for other purposes; mining; pesticides; vehicle exhaust; vehicle batteries; and household products. While these sources vary in the degree of risk they could present to wildlife, the Service is duly concerned by the health risks from any potential source of lead exposure for humans and wildlife. There are likely benefits to be had from efforts to address each of these sources in turn, but that is generally beyond the scope of this rulemaking.

Moreover, these potential sources do not change the fact that the best available science has drawn a clear link between the use of lead ammunition and tackle and its ecological health impacts. In fact, the study from Slabe, et al., cited earlier in response to Comment (7), provides strong evidence that not only that there is an impact to eagles from lead ammunition specifically, but also evidence that it likely represents the most important source of lead exposure for the species studied (Slabe 2022). Essentially, the study demonstrated that the highest rates of acute lead poisoning in eagles, measured by liver lead concentrations, corresponded in terms of timing with the use of lead ammunition in the form of a nationwide spike in lead poisoning in winter months in the midst of hunting seasons. To the extent other sources of lead do bear on our decisions about lead ammunition and tackle use, these additional lead sources in fact weigh in favor of lead use restrictions, as lead can accumulate in wildlife from repeated exposure from one or multiple sources (see, e.g., Behmke 2015). This applies both to the sources mentioned by commenters and additional sources that were not mentioned, such as coal-fired power plants and certain heavy industry, including smelting (see Behmke 2015). Similarly, the Service is also not discouraged from requiring the use of non-lead ammunition and tackle, where appropriate, by the continued use of lead ammunition and tackle for hunting and fishing on nearby State and privately held lands and waters. The Service will act, including to restrict visitor uses, as necessary within our authority, in the interest of our conservation mission regardless of human activities outside of refuge borders.

We did not make any changes to the rule as a result of these comments.

Comment (15): A few comments that were opposed to non-lead ammunition and tackle requirements maintained that lead ammunition and tackle are made of an inorganic form of lead that poses little risk of harm to humans or animals.

Our Response: While inorganic lead presents a low risk of adverse health impacts while it retains its solid, molded form (i.e., anglers face little risk from handling lead tackle), the basis for concern about lead ammunition and tackle is that there are multiple ways for such lead to become harmful to human and ecological health. Organic lead (i.e., the banned gasoline additive tetramethyl lead) is more dangerous than inorganic lead because it can be absorbed through the skin. Yet, inorganic lead can also have serious impacts in certain forms (e.g., fragments and particles) and once inside an animal. First, as briefly described in response to Comment (7), lead ammunition, including bonded lead ammunition, fragments when it hits an animal, and this distributes tiny pieces of lead within a wide radius in the soft tissues of the harvested animal (see “Fragmentation of lead-free and lead-based hunting rifle bullets under real life hunting conditions in Germany,” Trinogga et al., Ambio. 2019 Sep; 48(9): 1056-1064. Published online 2019 Mar 23.). These tiny fragments of lead are then consumed by humans eating the game meat and scavenger species eating carcasses or gut piles left behind. In this tiny, fragmented form and acted on by digestive enzymes and acids, the lead derived from ammunition can then shed particles that enter the blood stream and affect systems throughout the body, presenting both chronic and acute health risks. Second, as briefly described in response to Comment (7), lead ammunition and tackle that is deposited along shores or at the bottom of bodies of water can be ingested by several species of birds that forage in these locations for pebbles, as pebbles are necessary to break down food through grinding in a special organ of their digestive systems called a gizzard. This grinding process, along with digestive acids and enzymes that accompany food into the gizzard, can easily break down lead ammunition and tackle into fragments and cause it to shed particles, just as the process breaks down the stones and shells the birds intended to ingest. These lead particles are then able to enter the bloodstream and affect systems throughout the body, presenting both chronic and acute health risks. Third, lead ammunition and tackle that ends up discarded in bodies of water may begin to dissolve and thus introduce lead particles into the water that present both chronic and acute health risks to both aquatic animals living in the water and terrestrial animals drinking from the water. This process requires high acidity in the water that dissolves lead ammunition or tackle, and it is essentially the same concern as the problem of corrosion from acidic water in lead water pipes. These particles of lead dissolved into the water are easily taken up into the bloodstream as they pass through digestive systems. It is through these known processes that lead ammunition and tackle present a risk, and the best available scientific evidence indicates that these processes are occurring at rates that are causing negative impacts on the health of both humans and certain wildlife species, and those impacts are more acute for some species. Thus, we seriously consider the impact of inorganic forms of lead, such as lead ammunition and tackle, on wildlife and human health.

We did not make any changes to the rule as a result of these comments.

Comment (16): Many duplicate comments and a few unique comments included claims that restrictions on the use of lead ammunition and tackle will have significant negative economic impacts, including business costs of compliance for retailers and manufacturers, job losses, and a decrease in gross domestic product (GDP). Some of these comments implied that this rulemaking would cause the described economic impacts, but others specified that significant economic impacts would occur were the Service to go further and require non-lead ammunition and tackle throughout the Refuge System.

Our Response: The Service has found no reason to expect the outcomes described or any significant economic impact, positive or negative, from this rulemaking. We qualitatively considered both the positive and negative economic impacts of this rulemaking and conducted a quantitative analysis of the economic impact of the rulemaking as part of the proposed rule, updated for this final rule. None of our analyses indicate significant economic impacts, and the Office of Management and Budget's (OMB's) Office of Information and Regulatory Affairs (OIRA) has determined that this rulemaking is not significant under Executive Order 12866. We recognize that retailers of ammunition and tackle could experience costs in responding to a shift in market demand driven by regulations requiring non-lead ammunition and tackle. However, these potential costs are small and temporary. They are small in any case because non-lead ammunition can be made available and is available at prices comparable to lead ammunition, and exceedingly small in the current case where nine individual refuges are requiring or will propose to require the use of non-lead ammunition and tackle by 2026. For example, hunter visitation data for Chincoteague NWR in Virginia, a refuge in this rule planning to require non-lead ammunition use, indicates that only 1.2 percent of hunters in Virginia use the refuge on an annual basis. As to the commenters who claimed significant economic impacts in the hypothetical context of requiring non-lead for all hunting and fishing on the Refuge System, even in that case the use of lead ammunition and tackle is only a small fraction of all hunting and fishing use and an incredibly small fraction of all use in the case of lead ammunition, as some commenters acknowledged. Moreover, whatever the economic costs are, it is also important to note that they are temporary, rather than an ongoing compliance burden, as the costs are incurred during the process of transitioning resources and operations away from producing and selling lead tackle and ammunition to producing and selling non-lead tackle and ammunition. Once the resources and operations have been shifted, again an exceedingly small shift in the case of contemplated requirements for nine refuges, the transition costs are at an end. For these reasons, the economic costs of compliance are insignificant and unlikely to have visible impacts on employment, even within the affected industries, or GDP. Furthermore, if the Service were to perform a more comprehensive analysis of the costs and benefits of the non-lead ammunition requirements in this rulemaking, we would include some manner of quantification of the adverse human and ecological health impacts discussed throughout this rulemaking.

Finally, the Service, by statutory obligation, prioritizes our conservation mission and refuge purposes over recreational uses of refuges, including hunting and fishing. For example, this is perhaps most evident in the fact that hunting and fishing opportunities must be found compatible with the Refuge System mission and refuge purposes. We nevertheless strive to minimize the compliance burden on individuals and businesses and any other negative economic impacts, while maximizing conservation outcomes. We invite discussion and cooperation with manufacturers and retailers on measures to reduce the costs of non-lead ammunition and tackle requirements promulgated by or considered alongside this rulemaking, and any such requirements in the future.

We did not make any changes to the rule as a result of these comments.

Comment (17): Many commenters expressed concerns about the constitutionality of the Service creating non-lead ammunition and tackle requirements through our regulations, specifically under the Second Amendment and under the Major Questions Doctrine. Those questioning non-lead requirements under the Second Amendment primarily appealed to the amendment itself, but a few commenters also pointed to the recent U.S. Supreme Court case of New York State Rifle & Pistol Association Inc. v. Bruen (597 U.S. __ (2022), unpublished), decided on June 23, 2022. As for those questioning non-lead requirements under the Major Questions Doctrine, few commenters explicitly referred to the Major Questions Doctrine, but all of the comments appealed to the recent U.S. Supreme Court case of West Virginia v. U.S. Environmental Protection Agency (597 U.S. __ (2022), unpublished), decided on June 30, 2022.

Our Response: The Service maintains, although it is ultimately up to Federal courts, that all regulations promulgated by or considered in association with this rulemaking do not raise constitutional issues, including Service regulation of lead use on the National Wildlife Refuge System. First, as to the Second Amendment, the Service's requirement of non-lead ammunition on a given refuge does not actually limit the ownership, possession, or use of any firearm but only the possession and use of ammunition, and then only of a certain type of ammunition while there are other permitted types readily available. Moreover, where the Service has possession and use restrictions on lead ammunition they apply only while engaging in hunting activities. These restrictions do not apply to the possession of firearms for self-defense purposes, or even lead ammunition for self-defense that is not brought into the field. For example, a visitor can possess lead ammunition that remains in their vehicle and on the refuge while they are away from the vehicle to hunt or on her person for self-defense purposes while engaging in other forms of recreation besides hunting.

As to the Bruen case, the Service's regulations are fundamentally different than the challenged state law in that case. The Supreme Court found that a state cannot require individuals to provide a reason beyond their right to self-defense in order to be permitted to carry a concealed firearm as part of the state government's licensing of ownership and carrying of firearms. The Service is not placing any restrictions on ownership or possession of any firearm. Instead, as noted above, the Service's non-lead requirements contemplated in this rulemaking restrict a particular category of ammunition (i.e., ammunition that contains lead, as defined in waterfowl hunting requirements) only in a certain place (i.e., specific NWRs) and only while engaging in specific activities (i.e., designated hunting opportunities).

Additionally, the non-lead requirements contemplated in this rule actually expand, rather than restrict, the use of firearms for members of the public because the appropriate alternative to non-lead ammunition when and where we determine the need to phase-out lead is not the use of lead ammunition but the potential closure of hunting opportunities that are not compatible. If the Service could not put non-lead ammunition requirements in place where we find the continued use of lead is incompatible with refuge purposes and the Refuge System mission on a given refuge, then we would close all opportunities for which lead ammunition is used.

Second, as to the Major Questions Doctrine, the Service regulating lead use on the Refuge System would not meet the threshold question of being a major question and, even if it did, Congress provided clear authority and a clear guiding principle for such regulation. The West Virginia case held that the U.S. Environmental Protection Agency (EPA) lacked the authority to regulate carbon dioxide emissions of existing plants at the level of the power sector to encourage shifting power generation toward renewable energy technologies rather than regulating existing plants through plant-by-plant emissions standards. The Court relied on the Major Questions Doctrine, which is essentially a collection of case law that supports the idea that Federal courts should not give deference to Federal agencies in interpreting the statutes related to their expertise, which the courts otherwise typically would, if the Federal agency undertakes an extraordinary action with major political and economic significance. The Court also invoked the Non-Delegation Doctrine, which is essentially a collection of case law that supports the idea that a Federal agency must have received a clear delegation of authority with a guiding principle from Congress in order to create regulations in a given area. Together, these doctrines informed the Court's decision that EPA lacked authority on the grounds that the Court considered the regulations proposed by EPA in 2015, but never implemented, to be an extraordinary action with major political and economic significance. The Court also considered the language in the Clean Air Act (42 U.S.C. 7401 et seq.) that EPA relied on in proposing the regulations to not be clear enough evidence that Congress intended for EPA to have the authority to regulate greenhouse gases in the manner proposed. While an important case with implications for Federal agency rulemakings, the case has little bearing on this rulemaking, even when it comes to the use of lead ammunition and tackle. This is because the Service is only requiring or planning to require the use of lead at nine individual refuges by fall 2026; the Service has required non-lead ammunition and tackle at individual refuges numerous times in the past and even implemented a total national ban on lead ammunition for waterfowl hunting; and the Service has a very clear delegation of Congressional authority to administer the Refuge System with the guiding statutory principal that our conservation mission should inform when, where, and under what restrictions hunting and fishing are compatible uses at a given refuge. Thus, the Service's position is that any non-lead ammunition and tackle requirements for the Refuge System cannot reasonably raise the Major Questions Doctrine, and even if such a regulation could be considered a major question a Federal court would then not find the Service to be acting beyond its authority as intentionally granted by Congress.

We did not make any changes to the rule as a result of these comments.

Comment (18): Two commenters expressed concerns about human and ecological health impacts from copper, copper being a popular material for non-lead ammunition. The first commenter pointed to the possibility of copper toxicity and questioned why the Service would regulate lead use but not copper use. The second commenter colorfully expressed concerns that amounted to copper ammunition hindering reproduction in squirrels.

Our Response: The Service is not aware of any science showing human or ecological health threats from copper ammunition, especially none that rival the health threats of lead ammunition. First, on the point of copper toxicity, copper and lead are both metals that have been used for thousands of years, and lead has been known to present a much more serious threat of toxicity for nearly as long. Our modern understanding of this is essentially captured by the fact that the U.S. Food and Drug Administration (FDA) sets the maximum lead level in bottled drinking water at 0.005 milligrams per liter, whereas it sets the maximum for copper in bottled drinking water at 1.0 milligram per liter (see 21 CFR 165.110). By this measure, it takes 200 times as much copper as lead to threaten human health, and a similarly wide gap likely applies for wildlife. While copper toxicity is possible in certain circumstances for humans and wildlife, it is incredibly unlikely to occur from the use of copper ammunition in hunting. In fact, the commenter acknowledges when discussing copper toxicity that “it is not likely for this to happen.” All the same, if the Service comes to learn in the future that copper ammunition does present a threat to human and/or ecological health that raises compatibility issues with our conservation mission, especially if comparable to the threat posed by lead ammunition, the use of copper would be appropriately evaluated.

Second, on the point of copper ammunition potentially hindering reproduction in squirrels, there is even less cause for concern. While direct exposure to copper is known to affect sperm cells in humans and there is some evidence that indirect exposure to copper can affect sperm cells in humans, rodents, and potentially other animals, the use of copper ammunition is highly unlikely to result in this effect. There would not be direct exposure of sperm cells to copper in the case of ammunition, making copper ammunition in no way similar to the intrauterine devices (IUDs) that the commenter references. There could potentially be indirect exposure of sperm cells in humans or wildlife to copper derived from ammunition through one of the pathways mentioned for lead ammunition (e.g., eating the meat of or scavenging game), but as noted in discussing toxicity above the amount of copper necessary to generate health impacts is typically much higher than in the case of lead. For example, in a 2014 study that found evidence of copper exposure impacting the sperm of bank voles (a small rodent species) the amounts of copper the voles ingested were 150 and 600 times the FDA's maximum concentration in safe bottled drinking water discussed above, and this for an animal that is a few inches long and weighs about an ounce (see “Effect of copper exposure on reproductive ability in the bank vole (Myodes glareolus),” Miska-Schramm, et al., Ecotoxicology. 2014 Oct. 23(8):1546-54. Epub 2014 Aug 7.). Thus, the Service is not concerned about copper ammunition impacting human or wildlife reproduction, including squirrel reproduction.

We did not make any changes to the rule as a result of these comments.

Comment (19): Many commenters took the use of the word “may” to mean that the Service considered the scientific evidence of health impacts from lead ammunition and tackle to be uncertain when used in the Service's statement in the proposed rule preamble that “Finally, the best available science, analyzed as part of this proposed rulemaking, indicates that lead ammunition and tackle may have negative impacts on both wildlife and human health, and that those impacts are more acute for some species” (see 87 FR 35136, June 9, 2022, at p. 35136). Some of these commenters interpreted this statement to mean that the Service is acting improperly anywhere we are requiring the use of non-lead ammunition and tackle because the causal connection between lead use and adverse health impacts is uncertain. The remaining commenters interpreted this statement to mean the Service inaccurately portrayed the scientific evidence on lead ammunition and tackle use as there are many studies demonstrating the link between the use of lead and health impacts and a scientific consensus on the matter.

Our Response: The Service did not intend this word choice to have the connotation these commenters have understood in reading it. The Service wrote “may” not in the sense that the Service or the scientific literature we analyzed is uncertain, but rather in the sense that using lead ammunition or tackle can and does have these negative impacts on certain wildlife species and humans, even if an individual bullet or sinker may or may not contribute to lead poisoning in a particular wild animal or human. This is why the Service is duly engaged in evaluating the demonstrated impacts of lead use on fish and wildlife in order to determine whether the impacts warrant Service action at a broader scale, as well as what methods of addressing lead use are appropriate, should the Service take action. Accordingly, the Service has adopted this alternative phrasing for this final rule: The best available science, analyzed as part of this rulemaking, demonstrates that lead ammunition and tackle have negative impacts on both human health and wildlife, and those impacts are more acute for some species.

Besides the revision to the phrasing of the Service's statement on the best available science noted above, we made no other changes to the rule as a result of these comments.

Comment (20): We received a few comments that expressed concern over some aspect of public safety. Commenters raised concerns about openings or expansions of hunting at certain stations based on the conflicts with other visitors to the refuge, residential areas near refuges, or the need for adequate funding and/or staffing, especially of law enforcement personnel.

Our Response: The Service considers public safety to be a top priority. In order to open or expand hunting or sport fishing on a refuge, we must find the activity compatible. In order to find an activity compatible, the activity must not “materially interfere with or detract from” public safety, wildlife resources, or the purpose of the refuge (see the Service Manual at 603 FW 2.6.B., available online at https://www.fws.gov/policy/603fw2.html). For this rulemaking, we specifically analyzed the possible impacts of the changes to hunting programs at each refuge on visitor use and experience, including public safety concerns and possible conflicts between user groups.

Hunting of resident wildlife on refuges generally occurs consistent with State regulations, which are designed to protect public safety. Refuges may also develop refuge-specific hunting regulations that are more restrictive than State regulations in order to help meet specific refuge objectives, including protecting public safety. Refuges use many techniques to ensure the safety of hunters and visitors, such as requiring hunters and/or visitors to wear blaze orange, controlling the density of hunters, limiting where firearms can be discharged (e.g., not across roads, away from buildings), and using time and space zoning to limit conflicts between hunters and other visitors. It is worth noting that injuries and deaths related to hunting are extremely rare, both for hunters themselves and for the nonhunting public.

Public comment is important in ensuring we have considered all available information and concerns before making a final decision on a proposed opening or expansion. For all of the proposed openings or expansions of hunting in our proposed rule we have determined that there are sufficient protections in place as part of the hunt program at that refuge to ensure public safety. For more information on the Service's efforts to ensure public safety at a particular refuge, please see that refuge's hunt plan, compatibility determination, and associated NEPA analysis.

Regarding concerns about lack of funding or staffing, Service policy (603 FW 2.12.A(7)) requires station managers to determine that adequate resources (including personnel, which in turn includes law enforcement) exist or can be provided by the Service or a partner to properly develop, operate, and maintain the use in a way that will not materially interfere with or detract from fulfillment of the refuge purpose(s) and the Service's mission. If resources are lacking for establishment or continuation of wildlife-dependent recreational uses, the refuge manager will make reasonable efforts to obtain additional resources or outside assistance from States, other public agencies, local communities, and/or private and nonprofit groups before determining that the use is not compatible. When Service law enforcement resources are lacking, we are often able to rely upon State fish and game law-enforcement capacity to assist in enforcement of hunting and fishing regulations.

For all 18 refuges opening or expanding hunting and/or sport fishing in this rule, we have determined that we have adequate resources, including law enforcement personnel, to develop, operate, and maintain the hunt programs.

We did not make any changes to the rule as a result of these comments.

Comment (21): We also received a few comments expressing the sentiment that baiting and the use of hunting dogs are inappropriate uses on Service lands.

Our Response: All uses proposed as part of this rulemaking or otherwise authorized as part of hunting and fishing programs in the Refuge System are thoroughly assessed for compatibility with other visitor uses and with the Service's mission. Where permitted, the use of baiting and the use of hunting dogs are carried out safely and without significant impacts to the environment or healthy wildlife populations. While this rule does include opportunities that allow the use of hunting dogs, this rulemaking does not include opportunities that allow the use of baiting while hunting.

Many States and the majority of refuges do not allow baiting. In States where baiting is allowed, most refuges have elected to be more restrictive and not support this method of hunting. By default, the use of bait while hunting is prohibited unless specifically authorized under 50 CFR 32.2(h).

The majority of refuges do not allow the use of dogs and those that do typically only authorize the use of dogs for retrieval of migratory birds, upland game birds, and small game. Most refuges that allow dogs require that the dogs are under the immediate control of the hunter at all times or leashed, unless actively retrieving an animal.

We did not make any changes to the rule as a result of these comments.

Comment (22): One commenter suggested “rotation of these federal lands,” alongside reference to resting and feeding during winter migration, as part of their comment. We understand this to mean opening and closing hunting and fishing units within a refuge in alternating years, particularly in the interest of migratory bird species.

Our Response: Closing an area to hunting and/or fishing for a year, or another specific period of time, is something the Service can and will do when necessary to serve refuge purposes and our conservation mission, including providing opportunities for migratory species to rest and feed as the commenter advocated. However, such temporary closures of particular hunting and fishing opportunities or units do not require any modification to our regulations through rulemaking. Refuge managers are authorized to temporarily close recreational opportunities and areas, as necessary and at any time, for ecological health or public safety (50 CFR 25.21). If there truly is too much hunting pressure in any given area, the manager can address it through temporary closures or other mitigation measures just like any other threat to ecological health or public safety. Also, the Service has intentionally adopted a system where these closures are implemented on a case-by-case basis rather than through some system of formal rotation because the Service ensures at the time of authorizing hunting and fishing opportunities, such as those opened or expanded in this rulemaking, that the opportunities can run continually without having a significant adverse impact on migratory birds, as well as all other fish and wildlife species. We ensure this through analysis of localized direct, indirect, and cumulative impacts through NEPA analysis at the refuge level and analysis of impacts to entire flyways through our Cumulative Impacts Report that considers national and regional cumulative impacts from hunting and fishing on the Refuge System. This analysis and putting in place mitigation measures from the beginning, such as shorter seasons or buffer zones to protect endangered and threatened species, are the reason that temporary closures to protect migratory birds, or even other species, are rarely needed.

We did not make any changes to the rule as a result of these comments.

Comment (23): One commenter expressed concern that only well-connected individuals and commercial outfitters will receive all the special permits for opportunities where hunter numbers are limited.

Our Response: The Service always assigns permits for quota or limited entry hunts through fair and transparent processes. In most cases, permits are awarded through a random lottery.

We did not make any changes to the rule as a result of these comments.

Changes From the Proposed Rule

As discussed above, under Summary of Comments and Responses, based on comments we received on the June 9, 2022, proposed rule and NEPA documents for individual refuges, we made changes in this final rule to Canaan Valley, Blackwater, Eastern Neck, Erie, Chincoteague, Eastern Shore of Virginia, James River, Rappahannock River Valley, and Wallops Island NWRs.

At the request of the State of West Virginia, we have removed the proposal for Canaan Valley NWR and may revisit the proposal in the future after further coordination with the State.

At the request of the State of Virginia, for Eastern Shore of Virginia, James River, and Rappahannock River Valley NWRs, we made minor edits to the language authorizing dogs while hunting.

For Eastern Shore of Virginia NWR, we have corrected an administrative error in the proposed rule regulatory language that inadvertently applied a non-lead ammunition requirement to deer hunting at the refuge. In this final rule, the corrected regulatory language makes clear that the existing non-lead ammunition requirement for turkey hunting will remain in place but deer hunting at the refuge is not subject to a non-lead ammunition requirement.

For Blackwater, Chincoteague, Eastern Neck, Erie, and Wallops Island NWRs, we removed all proposed regulatory language specific to requiring the use of non-lead ammunition and fishing tackle, and we will propose language in the 2023-2024 rulemaking to require a non-lead requirement for all hunting and fishing activities which will take effect on September 1, 2026. In the meantime, these refuges will encourage hunters and anglers to switch to non-lead alternatives through outreach and education. We also note that any existing requirements at these refuges to use non-lead ammunition or tackle, including the national ban on lead ammunition for waterfowl hunting, will remain in effect. The removal of regulatory language is limited to removing proposed new non-lead requirements from the set of regulatory provisions that will take effect through this final rule.

Effective Date

We are making this rule effective upon the date of its filing at the Office of the Federal Register (see DATES, above), with the exception of the requirement to use non-lead ammunition and fishing tackle on Patoka River NWR at 50 CFR 32.33(c)(1)(iii), which will take effect on September 1, 2026. We provided a 60-day public comment period for the June 9, 2022, proposed rule (87 FR 35136). We have determined that any further delay in implementing these station-specific hunting and sport fishing regulations would not be in the public interest, in that a delay would hinder the effective planning and administration of refuges' hunting and sport fishing programs. This rule does not impact the public generally in terms of requiring lead time for compliance. Rather, it relieves restrictions in that it allows activities on refuges and hatcheries that we would otherwise prohibit. Therefore, we find good cause under 5 U.S.C. 553(d)(3) to make this rule effective upon the date of its filing at the Office of the Federal Register.

Amendments to Existing Regulations

Updates to Hunting and Fishing Opportunities on NWRs

This document codifies in the Code of Federal Regulations all of the Service's hunting and/or sport fishing regulations that we would update since the last time we published a rule amending these regulations (86 FR 48822; August 31, 2021) and that are applicable at Refuge System units previously opened to hunting and/or sport fishing. This rule better informs the general public of the regulations at each station, increases understanding and compliance with these regulations, and makes enforcement of these regulations more efficient. In addition to now finding these regulations in 50 CFR parts 32, visitors to our stations may find them reiterated in literature distributed by each station or posted on signs.

Table 1—Changes for 2022-2023 Hunting/Sport Fishing Season
Station | State | Migratory bird hunting | Upland game hunting | Big game hunting | Sport fishing
Baskett Slough NWR | Oregon | E | Closed | Closed | Closed.
Blackwater NWR | Maryland | E | O | E | Already Open.
Chincoteague NWR | Virginia | O | O | O/E | Already Open.
Crab Orchard NWR | Illinois | E | Already Open | Already Open | Already Open.
Eastern Neck NWR | Maryland | Closed | O | E | Already Open.
Erie NWR | Pennsylvania | O | O | O | E.
Ernest F. Hollings ACE Basin NWR | South Carolina | Already Open | Closed | E | Already Open.
Great Thicket NWR | New York/Maine | O | O | O | Closed.
James River NWR | Virginia | O | Already Open | Already Open | Already Open.
Patoka River NWR and Management Area | Indiana | E | E | E | E.
Patuxent Research Refuge | Maryland | E | E | E | Already Open.
Rachel Carson NWR | Maine | Already Open | C | E | Already Open.
Rappahannock River Valley NWR | Virginia | O | Already Open | Already Open | Already Open.
San Diego NWR | California | Closed | O | O | Closed.
Shawangunk Grasslands NWR | New York | Closed | Closed | O/E | Closed.
Trustom Pond NWR | Rhode Island | Already Open | O | O | Already Open.
Turnbull NWR | Washington | Already Open | Closed | O | Closed.
Wallops Island NWR | Virginia | O | O | O | Closed.
Key:
N = New station opened (New Station).
O = New species and/or new activity on a station previously open to other activities (Opening).
E = Station already open to activity adds new lands/waters, modifies areas open to hunting or fishing, extends season dates, adds a targeted hunt, modifies season dates, modifies hunting hours, etc. (Expansion).
C = Station closing certain species or the activity on some or all acres (Closing).

The changes for the 2022-2023 hunting/fishing season noted in the table above are each based on a complete administrative record which, among other detailed documentation, also includes a hunt plan, a compatibility determination (for refuges), and the appropriate National Environmental Policy Act (NEPA; 42 U.S.C. 4321 et seq.) analysis, all of which were the subject of a public review and comment process. These documents are available upon request.

The Service continues to evaluate the future of lead use in hunting and fishing on Service lands and waters; therefore, we do not plan to offer any hunting and fishing opportunities that would allow for the indefinite use of lead ammunition and tackle on the refuges included in this year's rulemaking. In this final rule, Patoka River NWR will require non-lead ammunition and tackle by fall 2026, and this refuge-specific regulation will take effect on September 1, 2026. As part of the 2023-2024 proposed rule, Blackwater, Chincoteague, Eastern Neck, Erie, Great Thicket, Patuxent Research Refuge, Rachel Carson, and Wallops Island NWRs will propose a non-lead requirement, which will take effect on September 1, 2026. In the June 9, 2022, proposed rule (87 FR 35136), the Service intended to phase out the use of lead on these eight refuges by allowing the use of lead ammunition and tackle for all new hunting and fishing opportunities—until fall 2026, which is when the Service plans to require non-lead ammunition and tackle for all activities on these refuges. (To clarify, if a refuge proposed to expand pre-existing opportunities that previously required non-lead ammunition or tackle, then non-lead ammunition and tackle would still be required for those activities.) Based on the breadth of comments received on the eight refuges' plan to require non-lead ammunition and tackle by fall 2026, the Service will propose these requirements next year and provide another opportunity to comment during the 2023-2024 rulemaking.

The Service remains concerned that lead is an important issue and will continue to appropriately evaluate and regulate lead ammunition and tackle on Service lands and waters. As indicated by the number of public comments received on the topic of lead, we recognize that this is a significant and contentious issue for many of our stakeholders. The best available science, analyzed as part of this rulemaking, demonstrates that lead ammunition and tackle have negative impacts on both human health and wildlife, and those impacts are more acute for some species. The Service will seek to engage with our partners on methods to address the use of lead while hunting and fishing on Service lands and waters, and the Service commits to following a transparent process in doing so within the near future.

Fish Advisory

For health reasons, anglers should review and follow State-issued consumption advisories before enjoying recreational sport fishing opportunities on Service-managed waters. You can find information about current fish-consumption advisories on the internet at https://www.epa.gov/fish-tech.

Required Determinations

Regulatory Planning and Review (Executive Orders 12866 and 13563)

Executive Order 12866 provides that the Office of Information and Regulatory Affairs (OIRA) will review all significant rules. OIRA has determined that this rulemaking is not significant.

Executive Order (E.O.) 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act

Under the Regulatory Flexibility Act (as amended by the Small Business Regulatory Enforcement Fairness Act [SBREFA] of 1996) (5 U.S.C. 601 et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule will not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule will not have a significant economic impact on a substantial number of small entities.

This rule opens or expands hunting and sport fishing on 18 NWRs. As a result, visitor use for wildlife-dependent recreation on these stations will change. If the stations establishing new programs were a pure addition to the current supply of those activities, it would mean an estimated maximum increase of 2,777 user days (one person per day participating in a recreational opportunity; see table 2). Because the participation trend is flat in these activities, this increase in supply will most likely be offset by other sites losing participants. Therefore, this is likely to be a substitute site for the activity and not necessarily an increase in participation rates for the activity.

Table 2—Estimated Maximum Change in Recreation Opportunities in 2022-2023
[2021 Dollars in thousands]
Station | Additional hunting days | Additional fishing days | Additional expenditures
Baskett Slough NWR | 270 |  | $9.5
Blackwater NWR | 100 |  | 3.5
Chincoteague NWR | 75 |  | 2.6
Crab Orchard NWR | 60 |  | 2.1
Eastern Neck NWR | 15 |  | 0.5
Erie NWR | 25 | 30 | 2.0
Ernest F. Hollings ACE Basin NWR |  |  | 0.0
Great Thicket NWR | 175 |  | 6.2
James River NWR | 75 |  | 2.6
Patoka River NWR and Management Area | 17 | 3 | 0.6
Patuxent Research Refuge | 100 |  | 3.6
Rachel Carson NWR | 10 |  | 0.4
Rappahannock River Valley NWR | 100 |  | 3.5
San Diego NWR | 1,002 |  | 35.3
Shawangunk Grasslands NWR | 75 |  | 2.6
Trustom Pond NWR | 60 |  | 2.1
Turnbull NWR | 560 |  | 19.7
Wallops Island NWR | 25 |  | 0.9
Total | 2,744 | 33 | 98.0

To the extent visitors spend time and money in the area of the station that they would not have spent there anyway, they contribute new income to the regional economy and benefit local businesses. Due to the unavailability of site-specific expenditure data, we use the national estimates from the 2016 National Survey of Fishing, Hunting, and Wildlife Associated Recreation to identify expenditures for food and lodging, transportation, and other incidental expenses. Using the average expenditures for these categories with the maximum expected additional participation of the Refuge System yields approximately $98,000 in recreation-related expenditures (see table 2, above). By having ripple effects throughout the economy, these direct expenditures are only part of the economic impact of these recreational activities. Using a national impact multiplier for hunting activities (2.51) derived from the report “Hunting in America: An Economic Force for Conservation” and for fishing activities (2.51) derived from the report “Sportfishing in America” yields a total maximum economic impact of approximately $246,000 (2021 dollars) (Southwick Associates, Inc., 2018). Using a local impact multiplier would yield more accurate and smaller results. However, we employed the national impact multiplier due to the difficulty in developing local multipliers for each specific region.

Since we know that most of the fishing and hunting occurs within 100 miles of a participant's residence, then it is unlikely that most of this spending will be “new” money coming into a local economy; therefore, this spending will be offset with a decrease in some other sector of the local economy. The net gain to the local economies will be no more than $246,000 and likely less. Since 80 percent of the participants travel less than 100 miles to engage in hunting and fishing activities, their spending patterns will not add new money into the local economy and, therefore, the real impact will be on the order of about $49,000 annually.

Small businesses within the retail trade industry (such as hotels, gas stations, taxidermy shops, bait-and-tackle shops, and similar businesses) may be affected by some increased or decreased station visitation. A large percentage of these retail trade establishments in the local communities around NWRs qualify as small businesses (see table 3, below). We expect that the incremental recreational changes will be scattered, and so we do not expect that the rule will have a significant economic effect on a substantial number of small entities in any region or nationally. As noted previously, we expect at most $98,000 to be spent in total in the refuges' local economies. The maximum increase will be less than one-tenth of 1 percent for local retail trade spending (see table 3, below). Table 3 does not include entries for those NWRs for which we project no changes in recreation opportunities in 2022-2023; see table 2, above.

Table 3—Comparative Expenditures for Retail Trade Associated With Additional Station Visitation for 2022-2023
[Thousands, 2021 dollars]
Station/county(ies) | Retail trade in 2017 ¹ | Estimated maximum addition from new activities | Addition as % of total | Establishments in 2017 ¹ | Establishments with fewer than 10 employees in 2017 ¹
Baskett Slough:
Polk, OR | $454,935 | $10 | <0.1 | 120 | 79
Blackwater:
Wicomico, MD | 1,983,533 | 2 | <0.1 | 376 | 226
Dorchester, MD | 541,191 | 2 | <0.1 | 100 | 74
Chincoteague:
Accomack, VA | 405,539 | 3 | <0.1 | 159 | 122
Crab Orchard:
Williamson, IL | 1,298,962 | 2 | <0.1 | 259 | 168
Eastern Neck:
Kent, MD | 216,681 | 1 | <0.1 | 87 | 57
Erie:
Crawford, PA | 1,095,512 | 2 | <0.1 | 293 | 197
Great Thicket:
Dutchess, NY | 4,321,906 | 3 | <0.1 | 1,084 | 784
York, ME | 2,972,219 | 3 | <0.1 | 871 | 640
James River:
Prince George, VA | 317,610 | 1 | <0.1 | 65 | 42
Patoka River:
Pike, IN | 70,298 | <1 | <0.1 | 32 | 23
Gibson, IN | 554,605 | <1 | <0.1 | 116 | 76
Patuxent Research Refuge:
Arundel, MD | 10,437,225 | 2 | <0.1 | 1,984 | 1,216
Prince George, MD | 11,591,063 | 2 | <0.1 | 2,361 | 1,482
Rachel Carson:
York, ME | 2,972,219 | <1 | <0.1 | 871 | 640
Cumberland, ME | 7,773,235 | <1 | <0.1 | 1,454 | 936
Rappahannock River Valley:
Essex, VA | 244,493 | 1 | <0.1 | 65 | 48
King George, VA | 379,429 | 1 | <0.1 | 64 | 42
Westmoreland, VA | 128,188 | 1 | <0.1 | 44 | 31
Richmond, VA | 2,498,764 | 1 | <0.1 | 795 | 578
Caroline, VA | 339,291 | 1 | <0.1 | 63 | 48
San Diego:
San Diego, CA | 51,587,171 | 35 | <0.1 | 9,423 | 6,245
Shawangunk Grasslands:
Ulster, NY | 2,841,612 | 3 | <0.1 | 747 | 546
Trustom Pond:
Washington, RI | 2,314,122 | 2 | <0.1 | 524 | 372
Turnbull:
Spokane, WA | 8,674,550 | 20 | <0.1 | 1,627 | 1,036
Wallops Island:
Accomack, VA | 405,539 | <1 | <0.1 | 159 | 122
¹ U.S. Census Bureau.

With the small change in overall spending anticipated from this rule, it is unlikely that a substantial number of small entities will have more than a small impact from the spending change near the affected stations. Therefore, we certify that this rule will not have a significant economic effect on a substantial number of small entities as defined under the Regulatory Flexibility Act (5 U.S.C. 601 et seq.). A regulatory flexibility analysis is not required. Accordingly, a small entity compliance guide is not required.

Small Business Regulatory Enforcement Fairness Act

This rule is not a major rule under 5 U.S.C. 804(2), the Small Business Regulatory Enforcement Fairness Act. We anticipate no significant employment or small business effects. This rule:

a. Will not have an annual effect on the economy of $100 million or more. The minimal impact will be scattered across the country and will most likely not be significant in any local area.

b. Will not cause a major increase in costs or prices for consumers; individual industries; Federal, State, or local government agencies; or geographic regions. This rule will have only a slight effect on the costs of hunting opportunities for Americans. If the substitute sites are farther from the participants' residences, then an increase in travel costs would occur. The Service does not have information to quantify this change in travel cost but assumes that, since most people travel less than 100 miles to hunt, the increased travel cost would be small. We do not expect this rule to affect the supply or demand for hunting opportunities in the United States, and, therefore, it should not affect prices for hunting equipment and supplies, or the retailers that sell equipment.

c. Will not have significant adverse effects on competition, employment, investment, productivity, innovation, or the ability of U.S.-based enterprises to compete with foreign-based enterprises. This rule represents only a small proportion of recreational spending at NWRs. Therefore, this rule will have no measurable economic effect on the wildlife-dependent industry, which has annual sales of equipment and travel expenditures of $72 billion nationwide.

Unfunded Mandates Reform Act

Since this rule applies to public use of federally owned and managed refuges, it does not impose an unfunded mandate on State, local, or Tribal governments or the private sector of more than $100 million per year. The rule does not have a significant or unique effect on State, local, or Tribal governments or the private sector. A statement containing the information required by the Unfunded Mandates Reform Act (2 U.S.C. 1531 et seq.) is not required.

Takings (E.O. 12630)

In accordance with E.O. 12630, this rule does not have significant takings implications. This rule only affects visitors at NWRs, and describes what they can do while they are on a Service station.

Federalism (E.O. 13132)

As discussed under Regulatory Planning and Review and Unfunded Mandates Reform Act, above, this rule does not have sufficient federalism implications to warrant the preparation of a federalism summary impact statement under E.O. 13132. In preparing this rule, we worked with State governments.

Civil Justice Reform (E.O. 12988)

In accordance with E.O. 12988, the Department of the Interior has determined that this rule does not unduly burden the judicial system and that it meets the requirements of sections 3(a) and 3(b)(2) of the Order.

Energy Supply, Distribution or Use (E.O. 13211)

On May 18, 2001, the President issued E.O. 13211 on regulations that significantly affect energy supply, distribution, or use. E.O. 13211 requires agencies to prepare Statements of Energy Effects when undertaking certain actions. Because this rule adds 2 NWRs to the list of refuges open to hunting and sport fishing and opens or expands hunting or sport fishing at 16 other NWRs, it is not a significant regulatory action under E.O. 12866, and we do not expect it to significantly affect energy supplies, distribution, or use. Therefore, this action is not a significant energy action, and no Statement of Energy Effects is required.

Consultation and Coordination With Indian Tribal Governments (E.O. 13175)

In accordance with E.O. 13175, we have evaluated possible effects on federally recognized Indian Tribes and have determined that there are no effects. We coordinate recreational use on NWRs and national fish hatcheries (NFHs) with Tribal governments having adjoining or overlapping jurisdiction before we propose the regulations.

Paperwork Reduction Act (PRA)

This final rule contains a collection of information that we have submitted to the Office of Management and Budget (OMB) for review and approval under the Paperwork Reduction Act of 1995 (44 U.S.C. 3501 et seq.). We may not conduct or sponsor and you are not required to respond to a collection of information unless it displays a currently valid OMB control number. The OMB has reviewed and approved the information collection requirements associated with hunting and sport fishing activities across the National Wildlife Refuge System and National Fish Hatchery System and assigned the following OMB control numbers:

• 1018-0140, “Hunting and Sport Fishing Application Forms and Activity Reports for National Wildlife Refuges, 50 CFR 25.41, 25.43, 25.51, 26.32, 26.33, 27.42, 30.11, 31.15, 32.1 to 32.72” (Expires 12/31/2023),

• 1018-0102, “National Wildlife Refuge Special Use Permit Applications and Reports, 50 CFR 25, 26, 27, 29, 30, 31, 32, & 36” (Expires 05/31/2025),

• 1018-0135, “Electronic Federal Duck Stamp Program” (Expires 01/31/2023),

• 1018-0093, “Federal Fish and Wildlife Permit Applications and Reports—Management Authority; 50 CFR 13, 15, 16, 17, 18, 22, 23” (Expires 08/31/2023), and

• 1024-0252, “The Interagency Access Pass and Senior Pass Application Processes” (Expires 09/30/2023).

In accordance with the PRA and its implementing regulations at 5 CFR 1320.8(d)(1), we provided the general public and other Federal agencies with an opportunity to comment on our proposal to revise OMB control number 1018-0140. This helps us assess the impact of our information collection requirements and minimize the public's reporting burden. It also helps the public understand our information collection requirements and provide the requested data in the desired format.

As part of our continuing effort to reduce paperwork and respondent burdens, and in accordance with 5 CFR 1320.8(d)(1), we invite the public and other Federal agencies to comment on any aspect of this information collection, including:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) Ways to minimize the burden of the collection of information on those who are to respond, including through the use of appropriate automated, electronic, mechanical, or other technological collection techniques or other forms of information technology, e.g., permitting electronic submission of response.

Comments that you submit in response to this rulemaking are a matter of public record. Before including your address, phone number, email address, or other personal identifying information in your comment, you should be aware that your entire comment—including your personal identifying information—may be made publicly available at any time. While you can ask us in your comment to withhold your personal identifying information from public review, we cannot guarantee that we will be able to do so.

The Service's final rule (RIN 1018-BF66) opens, for the first time, hunting and sport fishing on two NWRs and opens or expands hunting and sport fishing at 16 other NWRs. The additional burden associated with these new or expanded hunting and sport fishing opportunities, as well as the revised information collections identified below, require OMB approval.

Many refuges offer hunting and sport fishing activities without collecting any information. Those refuges that do collect hunter and angler information do so seasonally, usually once a year at the beginning of the hunting or sport fishing season. Some refuges may elect to collect the identical information via a non-form format (letter, email, or through discussions in person or over the phone). Some refuges provide the form electronically over the internet. In some cases, because of high demand and limited resources, we often provide hunt opportunities by lottery, based on dates, locations, or type of hunt.

The changes to the existing information collections identified below require OMB approval:

Hunting Applications/Permit (FWS Form 3-2439, Hunt Application—National Wildlife Refuge System)

Form 3-2439 collects the following information from individuals seeking hunting experiences on the NWRs:

• Lottery Application: Refuges who administer hunting via a lottery system will use Form 3-2439 as the lottery application. If the applicant is successful, the completed Form 3-2439 also serves as their permit application, avoiding a duplication of burden on the public filling out two separate forms.

• Date of application: We often have application deadlines, and this information helps staff determine the order in which we received the applications. It also ensures that the information is current.

• Methods: Some refuges hold multiple types of hunts, i.e., archery, shotgun, primitive weapons, etc. We ask for this information to identify opportunity(ies) a hunter is applying for.

• Species Permit Type: Some refuges allow only certain species, such as moose, elk, or bighorn sheep, to be hunted. We ask hunters to identify which species they are applying to hunt for.

• Applicant information: We collect name, address, phone number(s), and email so we can contact the applicant/permittee either during the application process, when the applicant is successful in a lottery drawing, or after receiving a permit.

• Party Members: Some refuges allow the permit applicant to include additional hunters in their group. We collect the names of all additional hunters, when allowed by the refuge.

• Parent/Guardian Contact Information: We collect name, relationship, address, phone number(s), and email for a parent/guardian of youth hunters. We ask for this information in the event of an emergency.

• Date: We ask hunters for their preferences for hunt dates.

• Hunt/Blind Location: We ask hunters for their preferences for hunt units, areas, or blinds.

• Special hunts: Some refuges hold special hunts for youth, hunters who are disabled, or other underserved populations. We ask hunters to identify if they are applying for these special hunts. For youth hunts, we ask for the age of the hunter at the time of the hunt.

• Signature and date: To confirm that the applicant (and parent/guardian, if a youth hunter) understands the terms and conditions of the permit.

Proposed revisions to FWS Form 3-2439:

With this submission, we would add an option for refuges to allow mobility impaired applicants to reserve specific hunting blinds upon providing proof of disability. The refuge will not retain the proof of disability. The documentation will be shredded upon approval of the blind reservation.

Self-Clearing Check-In Permit (FWS Form 3-2405)

FWS Form 3-2405 has three parts:

• Self-Clearing Daily Check-In Permit. Each user completes this portion of the form (date of visit, name, and telephone numbers) and deposits it in the permit box prior to engaging in any activity on the refuge.

• Self-Clearing Daily Visitor Registration Permit. Each user must complete the front side of the form (date, name, city, State, zip code, and purpose of visit) and carry this portion while on the refuge. At the completion of the visit, each user must complete the reverse side of the form (number of hours on refuge, harvest information (species and number), harvest method, angler information (species and number), and wildlife sighted (e.g., black bear and hog)) and deposit it in the permit box.

• Self-Clearing Daily Vehicle Permit. The driver and each user traveling in the vehicle must complete this portion (date) and display in clear view in the vehicle while on the refuge.

We use FWS Form 3-2405 to collect:

• Information on the visitor (name, address, and contact information). We use this information to identify the visitor or driver/passenger of a vehicle while on the refuge. This is extremely valuable information should visitors become lost or injured. Law enforcement officers can easily check vehicles for these cards in order to determine a starting point for the search or to contact family members in the event of an abandoned vehicle. Having this information readily available is critical in a search and rescue situation.

• Purpose of visit (hunting, sport fishing, wildlife observation, wildlife photography, auto touring, birding, hiking, boating/canoeing, visitor center, special event, environmental education class, volunteering, other recreation). This information is critical in determining public use participation in wildlife management programs. This not only allows the refuge to manage its hunt and other visitor use programs, but also to increase and/or improve facilities for non-consumptive uses that are becoming more popular on refuges. Data collected will also help managers better allocate staff and resources to serve the public as well as develop annual performance measures.

• Success of harvest by hunters/anglers (number and type of harvest/caught). This information is critical to wildlife management programs on refuges. Each refuge will customize the form by listing game species and incidental species available on the refuge, hunting methods allowed, and data needed for certain species (e.g., for deer, whether it is a buck or doe and the number of points; or for turkeys, the weight and beard and spur lengths).

• Visitor observations of incidental species. This information will help managers develop annual performance measures and provides information to help develop resource management planning.

• Photograph of animal harvested (specific refuges only). This requirement documents the sex of animal prior to the hunter being eligible to harvest the opposite sex (where allowed).

• Date of visit and/or area visited.

• Comments. We encourage visitors to comment on their experience.

Proposed revisions to FWS Form 3-2405:

With this submission, we would add a question asking hunters to provide the total number of hunt days on the refuge (at the conclusion of their hunting activities). Refuge management will use this information to monitor and evaluate hunt quality and resource impacts.

We request to renew, without change, the remaining information collections identified below currently approved by OMB:

Sport Fishing Application/Permit (FWS Form 3-2358, “Sport Fishing-Shrimping-Crabbing-Frogging Permit Application”)

Form 3-2358 allows the applicant to choose multiple permit activities, and requests the applicant provide the State fishing license number. The form provides the refuge with more flexibility to insert refuge-specific requirements/instructions, along with a permit number and dates valid for season issued.

We collect the following information from individuals seeking sport fishing experiences:

• Date of application: We often have application deadlines, and this information helps staff determine the order in which we received the applications. It also ensures that the information is current.

• State fishing license number: We ask for this information to verify the applicant is legally licensed by the State (where required).

• Permit Type: On sport fishing permits, we ask what type of activity (crabbing, shrimping, frogging, etc.) is being applied for.

• Applicant information: We collect name, address, phone number(s), and email so we can contact the applicant/permittee either during the application process or after receiving a permit.

• Signature and date: To confirm that the applicant (and parent/guardian, if a youth hunter) understands the terms and conditions of the permit.

Harvest/Fishing Activity Reports

We have one harvest/fishing activity report, FWS Form 3-2439, to be completed by hunters which addresses the species unique to the refuge being hunted. We ask users to report on their success after their experience so that we can evaluate hunt quality and resource impacts.

We collect the following information on the harvest reports:

• State-issued hunter identification (ID)/license number (Note: Refuges/hatcheries that rely on the State agency to issue hunting permits are not required to collect the permittee's personal identifying information (PII) on the harvest form. Those refuges/hatcheries may opt to collect only the State ID number assigned to the hunter in order to match harvest data with their issued permit. Refuges/hatcheries will collect either hunter PII or State-issued ID number, but not both.).

• Species observed. Data will be used by refuge/hatchery staff to document the presence of rare or unusual species (e.g., endangered or threatened species, or invasive species).

• Permit number/type. Data will be used to link the harvest report to the issued permit.

• Hunt Tag Number. Data will be used to link the harvest report to the species-specific hunt tag.

• Number of youth (younger than 18) in party. Data will be used to better understand volume of youth hunting on a refuge/hatchery. Specific hunter names are not collected, just total number of youths in hunting party.

• Harvested by. Data will be used to determine ratio of adults to youth hunters. Specific hunter names are not collected.

Labeling/Marking Requirements

As a condition of the permit, some refuges require permittees to label hunting and/or sport fishing gear used on the refuge. This equipment may include items such as the following: tree stands, blinds, or game cameras; hunting dogs (collars); flagging/trail markers; boats; and/or sport fishing equipment such as jugs, trotlines, and crawfish or crab traps. Refuges require the owner to label their equipment with their last name, the State-issued hunting/fishing license number, and/or hunting/fishing permit number. Refuges may also require equipment for youth hunters include “YOUTH” on the label. This minimal information is necessary in the event the refuge needs to contact the owner.

Required Notifications

On occasion, hunters may find their game has landed outside of established hunting boundaries. In this situation, hunters must notify an authorized refuge employee to obtain consent to retrieve the game from an area closed to hunting or entry only upon specific consent. Certain refuges also require hunters to notify the refuge manager when hunting specific species (e.g., black bear, bobcat, or eastern coyote) with trailing dogs. Refuges encompassing privately owned lands, referred to as “easement overlay refuges” or “limited-interest easement refuges,” may also require the hunter to obtain written or oral permission from the landowner prior to accessing the land.

Due to the wide range of hunting and sport fishing opportunities offered on NWRs and NFHs, the refuges and fish hatcheries may customize the forms to remove any fields that are not pertinent to the recreational opportunities they offer. Refuges will not add any new fields to the forms, but the order of the fields may be reorganized. Refuges may also customize the forms with instructions and permit conditions specific to a particular unit for the hunting/sport fishing activity. Copies of all forms are available to the public by submitting a request to the Service Information Collection Clearance Officer using one of the methods identified above in ADDRESSES.

Title of Collection: Hunting and Fishing Application Forms and Activity Reports for National Wildlife Refuges and National Fish Hatcheries, 50 CFR parts 32 and 71.

OMB Control Number: 1018-0140.

Form Number: FWS Forms 3-2358, 3-2405, 3-2439, and 3-2542.

Type of Review: Revision of a currently approved collection.

Respondents/Affected Public: Individuals and households.

Respondent's Obligation: Required To Obtain or Retain a Benefit.

Frequency of Collection: On occasion.

Estimated Annual Non-hour Burden Cost: $87,365 (application fees associated with hunting and sport fishing activities).

Activity | Annual number of responses | Completion time per response (minutes) | Total annual burden hours *
Fish/Crab/Shrimp Application/Permit (Form 3-2358) | 2,662 | 5 | 222
Harvest Reports (Forms 3-2542) | 591,577 | 15 | 147,894
Hunt Application/Permit (Form 3-2439) | 361,359 | 10 | 60,227
Labeling/Marking Requirements | 2,341 | 10 | 390
Required Notifications | 498 | 30 | 249
Self-Clearing Check-In Permit (Form 3-2405) | 673,618 | 5 | 56,135
Totals: | 1,632,055 |  | 265,117
* Rounded.

The above burden estimates indicate an expected total of 1,632,055 responses and 265,117 burden hours across all of our forms. These totals reflect expected increases of 1,652 responses, 270 burden hours, and $87 annual cost burden relative to our previous information collection request. We expect minimal burden increases as a direct result of the increased number of hunting and fishing opportunities on Service stations under this rule.

On June 9, 2022, we published a proposed rule (87 FR 35136) that solicited comments on the information collection requirements described in this supporting statement for a period of 60 days, ending August 8, 2022. We received no comments regarding the information collection requirements in response to the proposed rule.

This final rule is effective immediately upon filing, for the reasons set forth above under Effective Date. We will, however, accept and consider all public comments concerning the information collection requirements received in response to this final rule. Send your comments and suggestions on this information collection to the Service Information Collection Clearance Officer, U.S. Fish and Wildlife Service, 5275 Leesburg Pike, MS: PRB (JAO/3W), Falls Church, VA 22041-3803 (mail); or Info_Coll@fws.gov (email). Please reference OMB Control Number 1018-0140 in the subject line of your comments.

Endangered Species Act Section 7 Consultation

We comply with section 7 of the Endangered Species Act of 1973, as amended (16 U.S.C. 1531 et seq.), when developing comprehensive conservation plans and step-down management plans—which would include hunting and/or fishing plans—for public use of refuges and hatcheries, and prior to implementing any new or revised public recreation program on a station as identified in 50 CFR 26.32. We complied with section 7 for each of the stations affected by this rulemaking.

National Environmental Policy Act

We analyzed this rule in accordance with the criteria of the National Environmental Policy Act of 1969 (NEPA; 42 U.S.C. 4332(C)), 43 CFR part 46, and 516 Departmental Manual (DM) 8.

A categorical exclusion from NEPA documentation applies to publication of amendments to station-specific hunting and fishing regulations because they are technical and procedural in nature, and the environmental effects are too broad, speculative, or conjectural to lend themselves to meaningful analysis (43 CFR 46.210 and 516 DM 8). Concerning the actions that are the subject of this rulemaking, we have complied with NEPA at the project level when developing each proposal. This is consistent with the Department of the Interior instructions for compliance with NEPA where actions are covered sufficiently by an earlier environmental document (43 CFR 46.120).

Prior to the addition of a refuge or hatchery to the list of areas open to hunting and fishing in 50 CFR parts 32 and 71, we develop hunting and fishing plans for the affected stations. We incorporate these station hunting and fishing activities in the station comprehensive conservation plan and/or other step-down management plans, pursuant to our refuge planning guidance in 602 Fish and Wildlife Service Manual (FW) 1, 3, and 4. We prepare these comprehensive conservation plans and step-down plans in compliance with section 102(2)(C) of NEPA, the Council on Environmental Quality's regulations for implementing NEPA in 40 CFR parts 1500 through 1508, and the Department of Interior's NEPA regulations 43 CFR part 46. We invite the affected public to participate in the review, development, and implementation of these plans. Copies of all plans and NEPA compliance are available from the stations at the addresses provided below.

Available Information for Specific Stations

Individual refuge and hatchery headquarters have information about public use programs and conditions that apply to their specific programs and maps of their respective areas. To find out how to contact a specific refuge or hatchery, contact the appropriate Service office for the States listed below:

Hawaii, Idaho, Oregon, and Washington. Regional Chief, National Wildlife Refuge System, U.S. Fish and Wildlife Service, Eastside Federal Complex, Suite 1692, 911 NE 11th Avenue, Portland, OR 97232-4181; Telephone (503) 231-6203.

Arizona, New Mexico, Oklahoma, and Texas. Regional Chief, National Wildlife Refuge System, U.S. Fish and Wildlife Service, P.O. Box 1306, 500 Gold Avenue SW, Albuquerque, NM 87103; Telephone (505) 248-6635.

Illinois, Indiana, Iowa, Michigan, Minnesota, Missouri, Ohio, and Wisconsin. Regional Chief, National Wildlife Refuge System, U.S. Fish and Wildlife Service, 5600 American Blvd. West, Suite 990, Bloomington, MN 55437-1458; Telephone (612) 713-5476.

Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7356.

Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8307.

Colorado, Kansas, Montana, Nebraska, North Dakota, South Dakota, Utah, and Wyoming. Regional Chief, National Wildlife Refuge System, U.S. Fish and Wildlife Service, 134 Union Blvd., Lakewood, CO 80228; Telephone (303) 236-4377.

Alaska. Regional Chief, National Wildlife Refuge System, U.S. Fish and Wildlife Service, 1011 E Tudor Rd., Anchorage, AK 99503; Telephone (907) 786-3545.

California and Nevada. Regional Chief, National Wildlife Refuge System, U.S. Fish and Wildlife Service, 2800 Cottage Way, Room W-2606, Sacramento, CA 95825; Telephone (916) 767-9241.

Primary Author

Kate Harrigan, Division of Natural Resources and Conservation Planning, National Wildlife Refuge System, is the primary author of this rulemaking document.

List of Subjects in 50 CFR part 32

Fishing, Hunting, Reporting and recordkeeping requirements, Wildlife, Wildlife refuges.

Regulation Promulgation

For the reasons set forth in the preamble, we amend title 50, chapter I, subchapters C of the Code of Federal Regulations as follows:

PART 32—HUNTING AND FISHING

1. The authority citation for part 32 continues to read as follows:

Authority: 5 U.S.C. 301; 16 U.S.C. 460k, 664, 668dd-668ee, and 715i; Pub. L. 115-20, 131 Stat. 86.

2. Amend § 32.7 by:

a. Redesignating paragraphs (e)(17) through (23) as paragraphs (e)(18) through (24) and adding a new paragraph (e)(17);

b. Redesignating paragraphs (s)(2) through (7) as paragraphs (s)(3) through (8) and adding a new paragraph (s)(2); and

c. Redesignating paragraphs (ff)(3) through (10) as paragraphs (ff)(4) through (11) and adding a new paragraph (ff)(3).

The additions read as follows:

§ 32.7 What refuge units are open to hunting and/or sport fishing?

* * * * *

(e) * * *

(17) San Diego National Wildlife Refuge.

* * * * *

(s) * * *

(2) Great Thicket National Wildlife Refuge.

* * * * *

(ff) * * *

(3) Great Thicket National Wildlife Refuge.

* * * * *

3. Amend § 32.24 by:

a. Revising paragraphs (m)(1)(ix) and (m)(4)(i);

b. Redesignating paragraphs (q) through (w) as (r) through (x);

c. Adding new paragraph (q); and

d. Revising newly redesignated paragraphs (t)(2)(ii) and (w)(2)(ii).

The revisions and addition read as follows:

§ 32.24 California.

* * * * *

(m) * * *

(1) * * *

(ix)We only allow access to the hunt area by foot and nonmotorized cart.

* * * * *

(4) * * *

(i)We prohibit fishing from October 1 to January 31.

* * * * *

(q) San Diego National Wildlife Refuge—(1) [Reserved]

(2) Upland game hunting. We allow hunting of quail, mourning and white-winged dove, spotted and ringed turtle dove, Eurasian collared-dove, brush rabbit, cottontail rabbit, and jackrabbit on designated areas of the refuge subject to the following conditions:

(i) Archery hunting of quail is limited to September 1 to the closing date established by the California Department of Fish and Wildlife (CDFW).

(ii) Hunting of brush rabbit and cottontail rabbit is limited to September 1 to the closing date established by CDFW.

(iii) Hunting of Eurasian collared-dove and jackrabbit is limited to September 1 to the last day of February.

(iv) We allow shotguns and archery only. Falconry is prohibited.

(v) You may not possess more than 25 shot shells while in the field.

(vi) We allow the use of dogs when hunting upland game.

(3) Big game hunting. We allow hunting of mule deer on designated areas of the refuge.

(4) [Reserved]

* * * * *

(t) * * *

(2) * * *

(ii) The conditions set forth at paragraphs (t)(1)(ii) and (iii) of this section apply.

* * * * *

(w) * * *

(2) * * *

(ii) The conditions set forth at paragraphs (w)(1)(i) through (viii) of this section apply.

* * * * *

4. Amend § 32.29 by revising paragraph (a)(3) to read as follows:

§ 32.29 Georgia.

* * * * *

(a) * * *

(3) Big game hunting. We allow alligator hunting on designated areas of the refuge subject to the following condition: We only allow alligator hunting on dates outlined by the State of Georgia during the first two weekends (from legal sunset Friday through legal sunrise Monday) of the State alligator season.

* * * * *

5. Amend § 32.33 by:

a. Republishing paragraphs (c) introductory text, (c)(1) introductory text, and (c)(1)(i);

b. Revising paragraph (c)(1)(ii); and

c. Revising paragraphs (c)(2) through (4).

The revisions read as follows:

§ 32.33 Indiana.

* * * * *

(c) Patoka River National Wildlife Refuge and Management Area—(1) Migratory game bird hunting. We allow hunting of duck, goose, merganser, coot, woodcock, dove, snipe, rail, and crow on designated areas of the refuge and the White River Wildlife Management Area subject to the following conditions:

(i) You must remove all boats, decoys, blinds, and blind materials after each day's hunt (see §§ 27.93 and 27.94 of this chapter).

(ii) We prohibit hunting and the discharge of a weapon within 150 yards (137 meters) of any dwelling or any building that may be occupied by people, pets, or livestock and within 50 yards (45 meters) of all designated public use facilities, including, but not limited to, parking areas and established hiking trails listed in the refuge hunting and fishing brochure.

* * * * *

(2) Upland game hunting. We allow hunting of bobwhite quail, pheasant, cottontail rabbit, squirrel (gray and fox), red and gray fox, coyote, opossum, striped skunk, and raccoon subject to the following conditions:

(i) We allow the use of dogs for hunting, provided the dog is under the immediate control of the hunter at all times.

(ii) The conditions set forth at paragraphs (c)(1)(i) through (iii) of this section apply.

(3) Big game hunting. We allow hunting of white-tailed deer and wild turkey on designated areas of the refuge subject to the following conditions:

(i) The conditions set forth at paragraphs (c)(1)(i) through (iii) of this section apply.

(ii) On the Columbia Mine Unit, you may only hunt white-tailed deer during the first week (7 days) of the following seasons, as governed by the State: archery, firearms, and muzzleloader.

(iii) On the Columbia Mine Unit, you may leave portable tree stands overnight only when the unit is open to hunting and for a 2-day grace period before and after the special season.

(iv) On the Columbia Mine Unit, if you use a rifle to hunt, you may use only rifles allowed by State regulations for hunting on public land.

(4) Sport fishing. We allow sport fishing on designated areas of the refuge subject to the following conditions:

(i) We allow fishing from legal sunrise to legal sunset.

(ii) We allow fishing only with rod and reel, pole and line, bow and arrow, or crossbow.

(iii) The minimum size limit for largemouth bass on Snakey Point Marsh and on the Columbia Mine Unit is 14 inches (35.6 centimeters).

(iv) We prohibit the taking of any turtle, frog, leech, minnow, crayfish, and mussel (clam) species by any method on the refuge (see § 27.21 of this chapter).

(v) You must remove boats at the end of each day's fishing activity (see § 27.93 of this chapter).

(vi) The condition set forth at paragraph (c)(1)(iii) of this section applies.

* * * * *

6. Effective September 1, 2026, § 32.33 is further amended by revising paragraph (c)(1)(iii) to read as follows:

§ 32.33 Indiana.

* * * * *

(c) * * *

(1) * * *

(iii) You may only use or possess approved non-lead shot shells, ammunition, and tackle while in the field.

* * * * *

7. Amend § 32.38 by:

a. Redesignating paragraphs (b) through (g) as (c) through (h);

b. Adding new paragraph (b);

c. Revising newly redesignated paragraphs (c)(2)(i), (c)(3)(i), (f)(2), (f)(3)(i), (f)(3)(iii), and (f)(3)(vi);

d. Adding new paragraph (f)(3)(vii); and

e. Revising newly redesignated paragraphs (g)(2)(i) and (g)(3)(i).

The additions and revisions read as follows:

§ 32.38 Maine.

* * * * *

(b) Great Thicket National Wildlife Refuge—(1) Migratory game bird hunting. We allow hunting of duck, sea duck, dark goose, light goose, woodcock, and coot on designated areas of the refuge subject to the following conditions:

(i) You must obtain and sign a refuge hunt information sheet and carry the information sheet at all times.

(ii) We allow the use of dogs consistent with State regulations.

(iii) We allow access for hunting from one hour before legal hunting hours until one hour after legal hunting hours.

(iv) We allow take of migratory birds by falconry on the refuge during State seasons.

(2) Upland game hunting. We allow hunting of grouse and the incidental take of fox and coyote while deer hunting on designated areas of the refuge subject to the following conditions:

(i) The conditions set forth at paragraphs (b)(1)(i) through (iii) of this section apply.

(ii) We prohibit night hunting of coyote.

(iii) We allow take of grouse by falconry on the refuge during the State season.

(3) Big game hunting. We allow hunting of wild turkey and white-tailed deer, and the incidental take of fox and coyote while deer hunting, on designated areas of the refuge subject to the following conditions:

(i) The conditions set forth at paragraphs (b)(1)(i) through (iii) of this section apply.

(ii) All species harvested on the refuge must be retrieved.

(4) [Reserved]

(c) * * *

(2) * * *

(i) The conditions set forth at paragraphs (c)(1)(i), (ii) (except for hunters pursuing raccoon and coyote at night), (iii), and (iv) of this section apply.

* * * * *

(3) * * *

(i) The conditions set forth at paragraphs (c)(1)(i), (ii), and (iv) of this section apply.

* * * * *

(f) * * *

(2) Upland game hunting. We allow hunting of grouse, fox, and coyote on designated areas of the refuge subject to the following conditions:

(i) The conditions set forth at paragraphs (f)(1)(i) and (iii) of this section apply.

(ii) We allow take of grouse by falconry on the refuge during State seasons.

(3) * * *

(i) The conditions as set forth at paragraphs (f)(1)(i) and (iv) of this section apply.

* * * * *

(iii) We allow turkey hunting during the fall season as designated by the State. Turkey hunting in the spring is a mentor-led hunt only.

* * * * *

(vi) We allow access for hunting from 1 hour before legal hunting hours until 1 hour after legal hunting hours.

(vii) All species harvested on the refuge must be retrieved.

* * * * *

(g) * * *

(2) * * *

(i) The conditions set forth at paragraphs (g)(1)(i) through (iv) (except for hunters pursing raccoon or coyote at night) of this section apply.

* * * * *

(3) * * *

(i) The conditions set forth at paragraphs (g)(1)(i), (ii), and (iv) of this section apply.

* * * * *

8. Amend § 32.39 by:

a. Revising paragraph (a)(1)(i);

b. Adding paragraph (a)(2);

c. Revising paragraphs (a)(3)(i)(D), (a)(3)(iii), and (a)(3)(v)(A);

d. Adding paragraph (b)(2);

e. Revising paragraphs (b)(3)(i)(C) and (b)(3)(iii)(A);

f. Adding paragraph (c)(3)(iii); and

g. Revising paragraph (c)(4).

The revisions and additions read as follows:

§ 32.39 Maryland.

* * * * *

(a) * * *

(1) * * *

(i) You must obtain, and possess while hunting, a refuge waterfowl hunting permit (printed and signed copy of permit from Recreation.gov).

* * * * *

(2) Upland game hunting. We allow incidental take of coyote during the prescribed State season while deer hunting on designated areas of the refuge subject to the following conditions:

(i) The conditions set forth at paragraphs (a)(3)(i) through (v) of this section apply.

(ii) Coyote may only be taken with firearms and archery equipment allowed during the respective deer seasons.

(iii) We prohibit the use of electronic predator calls.

(3) * * *

(i) * * *

(D) We prohibit the use of rimfire or centerfire rifles and all handguns, except those that fire straight wall cartridges as defined by State law that are legal for deer hunting.

* * * * *

(iii) We allow turkey hunt permit holders (printed and signed copy of permit from Recreation.gov) to have an assistant, who must remain within sight and normal voice contact and abide by the rules set forth in the refuge's turkey hunting brochure.

* * * * *

(v) * * *

(A) We require disabled hunters to have an America the Beautiful Access pass (OMB Control 1024-0252) in their possession while hunting in disabled areas.

* * * * *

(b) * * *

(2) Upland game hunting. We allow incidental take of coyote during the prescribed State season while deer hunting on designated areas of the refuge subject to the following conditions:

(i) The conditions set forth at paragraphs (b)(3)(i) through (iii) of this section apply.

(ii) Coyote may only be taken with firearms and archery equipment allowed during the respective deer seasons.

(iii) We prohibit the use of electronic predator calls.

(3) * * *

(i) * * *

(C) We prohibit organized deer drives. We define a “deer drive” as an organized or planned effort to pursue, drive, chase, or otherwise frighten or cause deer to move in the direction of any person(s) who is part of the organized or planned hunt and known to be waiting for the deer.

* * * * *

(iii) * * *

(A) We require disabled hunters to have an America the Beautiful Access pass (OMB Control 1024-0252) in their possession while hunting in disabled areas.

* * * * *

(c) * * *

(3) * * *

(iii) We prohibit shooting a projectile from a firearm, muzzleloader, bow, or crossbow from, down, or across any road that is traveled by vehicular traffic.

(4) Sport fishing. We allow sport fishing on designated areas of the refuge subject to the following condition: We prohibit the use or possession of lead fishing tackle.

* * * * *

9. Amend § 32.45 by:

a. Revising paragraphs (b)(2) and (v)(1); and

b. Adding new paragraph (v)(3)(v).

The revisions and addition read as follows:

§ 32.45 Montana.

* * * * *

(b) * * *

(2) Upland game hunting. We allow the hunting of pheasant, sharp-tailed grouse, gray partridge, coyote, skunk, red fox, raccoon, hare, rabbit, and tree squirrel on designated areas of the district.

* * * * *

(v) * * *

(1) Migratory game bird hunting. We allow hunting of goose, duck, and coot on designated areas of the refuge subject to the following condition: We allow the use of dogs while hunting migratory birds.

* * * * *

(3) * * *

(v) We prohibit hunting bear with dogs.

* * * * *

10. Amend § 32.51 by:

a. Redesignating paragraphs (c) through (j) as (d) through (k);

b. Adding new paragraph (c); and

c. Revising newly redesignated paragraphs (d)(2)(i), (d)(3)(ii), (e)(1)(ii)(B) through (D), (e)(2)(i), (e)(2)(iv), (e)(3)(i), (e)(3)(iii), (h)(3) introductory text, (h)(3)(ii), (j)(2)(i), and (j)(3)(i).

The addition and revisions read as follows:

§ 32.51 New York.

* * * * *

(c) Great Thicket National Wildlife Refuge—(1)-(2) [Reserved]

(3) Big game hunting. We allow hunting of wild turkey, white-tailed deer, and black bear on designated areas of the refuge subject to the following conditions:

(i) Hunters must obtain a refuge hunting permit (FWS Form 3-2439, Hunt Application—National Wildlife Refuge System). We require hunters to possess a signed refuge hunting permit at all times while scouting and hunting on the refuge.

(ii) We prohibit the use of dogs.

(iii) Hunters may access the refuge 2 hours before legal sunrise and must leave no later than 2 hours after legal sunset.

(iv) We prohibit organized deer drives. We define a “deer drive” as an organized or planned effort to pursue, drive, chase, or otherwise frighten deer into moving in the direction of any person(s) who is part of the organized or planned hunt and known to be waiting for the deer.

(v) We only allow archery hunting.

(4) [Reserved]

(d) * * *

(2) * * *

(i) The condition set forth at paragraph (d)(1)(i) of this section applies.

* * * * *

(3) * * *

(ii) The condition set forth at paragraph (d)(1)(i) of this section applies.

* * * * *

(e) * * *

(1) * * *

(ii) * * *

(B) We allow hunting only on Tuesdays, Thursdays, and Saturdays during the established refuge season set within the State western zone season, and during New York State's established special hunts, which can occur any day of the week as set by the State. Veteran and active military hunters may be accompanied by a qualified non-hunting companion (qualified companions must be of legal hunting age and possess a valid hunting license, Federal Migratory Bird Hunting and Conservation Stamp (as known as “Federal Duck Stamp”), and Harvest Information Program (HIP) number).

(C) All hunters with reservations and their hunting companions must check-in at the Route 89 Hunter Check Station area at least 1 hour before legal shooting time or forfeit their reservation. Hunters may not enter the refuge/Hunter Check Station area earlier than 2 hours before legal sunrise.

(D) We allow motorless boats to hunt waterfowl. We limit hunters to one boat per reservation and one motor vehicle in the hunt area per reservation.

* * * * *

(2) * * *

(i) The condition set forth at paragraph (e)(1)(i) of this section applies.

* * * * *

(iv) We require the use of approved non-lead shot for upland game hunting (see § 32.2(k)).

(3) * * *

(i) The condition set forth at paragraph (e)(1)(i) of this section applies.

* * * * *

(iii) We allow white-tailed deer and turkey hunters to access the refuge from 2 hours before legal sunrise until 2 hours after legal sunset.

* * * * *

(h) * * *

(3) Big game hunting. We allow hunting of black bear, wild turkey, and white-tailed deer on designated areas of the refuge subject to the following conditions:

* * * * *

(ii) You may hunt black bear, wild turkey, and deer using archery equipment only.

* * * * *

(j) * * *

(2) * * *

(i) The conditions set forth at paragraphs (j)(1)(i) through (iii) of this section apply.

* * * * *

(3) * * *

(i) The conditions set forth at paragraphs (j)(1)(i) and (ii), and (j)(2)(ii) of this section apply.

* * * * *

11. Amend § 32.56 by revising paragraph (b)(1)(v) to read as follows:

§ 32.56 Oregon.

* * * * *

(b) * * *

(1) * * *

(v) We require youth waterfowl hunters to check in and out at the Hunter Check Station (refuge office), which is open from 1½ hours before legal hunting hours to 8 a.m. and from 11 a.m. to 1 p.m. We prohibit hunting after 12 p.m. (noon) for this hunt.

* * * * *

12. Amend § 32.57 by revising paragraph (b) to read as follows:

§ 32.57 Pennsylvania.

* * * * *

(b) Erie National Wildlife Refuge—(1) Migratory game bird hunting. We allow hunting of mourning dove, woodcock, rail, Wilson's snipe, Canada goose, duck, coot, mute swan, and crow on designated areas of the refuge subject to the following conditions:

(i) We allow hunting and scouting activities on the refuge from September 1 through the end of February. We also allow scouting the 7 days prior to the start of each season.

(ii) We allow use of nonmotorized boats only for waterfowl hunting in permitted areas.

(iii) We prohibit field possession of migratory game birds in areas of the refuge closed to migratory game bird hunting.

(iv) We allow the use of dogs consistent with State regulations.

(2) Upland game hunting. We allow hunting of ruffed grouse, squirrel, rabbit, woodchuck, pheasant, quail, raccoon, fox, coyote, skunk, weasel, porcupine, and opossum on designated areas of the refuge subject to the following conditions:

(i) We allow woodchuck hunting on the refuge from September 1 through the end of February.

(ii) We prohibit the use of raptors to take small game.

(iii) The condition set forth at paragraph (b)(1)(iv) of this section applies.

(iv) We prohibit night hunting. Hunters may access the refuge 2 hours before sunrise and must leave no later than 2 hours after sunset.

(3) Big game hunting. We allow hunting of deer, bear, turkey, and feral hog on designated areas of the refuge subject to the following conditions:

(i) We allow hunting of feral hogs on the refuge from September 1 through the end of February.

(ii) The condition set forth at paragraph (b)(1)(iv) of this section applies.

(4) Sport fishing. We allow sport fishing on designated areas of the refuge subject to the following conditions:

(i) We allow nonmotorized watercraft use in Area 5. Watercraft must remain in the area from the dike to 3,000 feet (900 meters) upstream.

(ii) We prohibit the taking of turtle or frog (see § 27.21 of this chapter).

(iii) We prohibit the collection or release of baitfish. Possession of live baitfish is prohibited on the Seneca Division.

(iv) We prohibit the taking or possession of shellfish on the refuge.

(v) We allow fishing from ½ hour before sunrise until ½ hour after legal sunset.

* * * * *

13. Amend § 32.58 by:

a. Revising paragraph (d)(3)(iii); and

b. Adding paragraphs (e)(2) and (3).

The revision and additions read as follows:

§ 32.58 Rhode Island.

* * * * *

(d) * * *

(3) * * *

(iii) We only allow portable or temporary stands and blinds that must be removed from the refuge on the last day of the refuge-authorized deer hunt (see § 27.93 of this chapter). We prohibit permanent tree stands. Stands and blinds must be marked with the hunter's State hunting license number.

* * * * *

(e) * * *

(2) Upland game hunting. We allow hunting of coyote and fox on designated areas of the refuge subject to the following conditions:

(i) The condition set forth at paragraph (e)(3)(i) of this section applies.

(ii) We only allow the incidental take of coyote and fox during the refuge deer hunting season with weapons authorized for that hunt.

(3) Big game hunting. We allow hunting of white-tailed deer on designated areas of the refuge subject to the following conditions:

(i) We require every hunter to possess and carry a personally signed refuge hunt permit (FWS Form 3-2439, Hunt Application—National Wildlife Refuge System).

(ii) We only allow portable or temporary stands and blinds that must be removed from the refuge on the last day of the permitted hunting session (see § 27.93 of this chapter). We prohibit permanent tree stands. Stands and blinds must be marked with the hunter's State hunting license number.

(iii) We only allow the use of archery equipment.

* * * * *

14. Amend § 32.59 by:

a. Revising paragraph (c)(3)(iii);

b. Removing paragraph (c)(3)(x); and

c. Redesignating paragraphs (c)(3)(xi) through (xiv) as (c)(3)(x) through (xiii).

The revision reads as follows:

§ 32.59 South Carolina.

* * * * *

(c) * * *

(3) * * *

(iii) Except for the special quota permit hunts, we allow only archery or muzzleloader hunting for deer. We only allow muzzleloading rifles using a single projectile on the muzzleloader hunts. We prohibit buckshot. During special quota permit hunts, we allow use of centerfire rifles or shotguns. We only allow shotguns for turkey hunts.

* * * * *

15. Amend § 32.63 by revising paragraphs (b)(2) introductory text and (b)(2)(i) to read as follows:

§ 32.63 Utah.

* * * * *

(b) * * *

(2) Upland game hunting.We allow hunting of chukar, desertcottontail rabbit, and mountaincottontail rabbit on designated areas of the refuge subject to the following conditions:

(i) We close to hunting on the last day of the State waterfowl season.

* * * * *

16. Amend § 32.64 by adding paragraph (a)(1)(viii)(C) to read as follows:

§ 32.64 Vermont.

* * * * *

(a) * * *

(1) * * *

(viii) * * *

(C) We limit hunting to Saturdays, Sundays, and Wednesdays throughout the waterfowl hunting season for duck.

* * * * *

17. Amend § 32.65 by:

a. Revising paragraphs (a)(4)(ii), (a)(4)(iii), (b), (c), and (f)(1)(ii);

b. Adding new paragraphs (f)(1)(vi) and (h)(1);

c. Revising paragraphs (h)(3)(ii), (h)(3)(iv), (j)(2), and (j)(3)(v);

d. Adding paragraph (m)(1);

e. Revising paragraph (m)(3);

f. Adding paragraphs (n)(1) and (2); and

g. Revising paragraph (n)(3).

The revisions and addition read as follows:

§ 32.65 Virginia.

* * * * *

(a) * * *

(4) * * *

(ii) You may surf fish, crab, and clam south of the refuge's beach access ramp. We allow night surf fishing by permit (FWS Form 3-2358) in this area on dates and at times designated on the permit.

(iii) For sport fishing in D Pool:

(A) We only allow fishing from the docks or banks in D Pool. We prohibit boats, canoes, and kayaks on D Pool.

(B) You must catch and release all freshwater game fish. The daily creel limit for D Pool for other species is a maximum combination of any 10 nongame fish.

(C) Parking for non-ambulatory anglers is available adjacent to the dock at D Pool. All other anglers must enter the area by foot or bicycle.

(b) Chincoteague National Wildlife Refuge—(1) Migratory game bird hunting. We allow hunting of waterfowl, coot, snipe, gallinule, dove, woodcock, crow, and rail on designated areas of the refuge subject to the following conditions:

(i) Hunters must obtain and possess a signed refuge hunt brochure while hunting on the refuge.

(ii) Hunters may only access hunting areas by boat. We allow hunters to access the refuge from 2 hours before legal sunrise until 2 hours after legal sunset.

(iii) We allow hunting during State seasons from September 16 to March 14.

(iv) We allow the use of dogs while hunting consistent with State regulations.

(v) We prohibit the use of permanent blinds and pit blinds. You must remove portable blinds and decoys at the end of each day's hunt.

(2) Upland game hunting. We allow hunting of raccoon, opossum, fox, and coyote on designated areas of the refuge subject to the following conditions:

(i) The condition set forth at paragraph (b)(1)(i) of this section applies. All occupants of a vehicle or hunt party must possess a signed refuge hunt brochure and be actively engaged in hunting unless aiding a disabled person who possesses a valid State disabled hunting license.

(ii) Hunters must sign in at the hunter check station prior to hunting and sign out prior to exiting the refuge.

(iii) We prohibit the hunting of upland game at night. Hunters may access the refuge from 2 hours before legal sunrise until 2 hours after legal sunset.

(iv) We prohibit the use of dogs while hunting upland game.

(v) We prohibit firearms in designated archery-only areas.

(vi) You may not hunt, discharge a firearm, or nock an arrow or crossbow bolt within 100 feet (30.5 meters) of any building, road, or trail.

(3) Big game hunting. We allow hunting of white-tailed deer, sika, and wild turkey on designated areas of the refuge subject to the following conditions:

(i) The conditions set forth at paragraphs (b)(2)(i), (ii), (v), and (vi) of this section apply.

(ii) Hunters may access the refuge from 2 hours before legal sunrise until 2 hours after legal sunset.

(iii) We prohibit organized deer drives. We define a “deer drive” as an organized or planned effort to pursue, drive, chase, or otherwise frighten or cause deer to move in the direction of any person(s) who is part of the organized or planned hunt and known to be waiting for the deer.

(iv) We prohibit the use of pursuit dogs while hunting white-tailed deer and sika.

(v) We allow the use of portable tree stands, but you must remove them at the end of each day's hunt.

(vi) We allow limited hunting of wild turkey during designated State spring and fall seasons only when in the possession of a valid refuge turkey quota hunt permit.

(4) Sport fishing. We allow sport fishing, crabbing, and clamming from the shoreline of the refuge in designated areas subject to the following conditions:

(i) You must attend minnow traps, crab traps, crab pots, and handlines at all times.

(ii) We prohibit the use of seine nets and pneumatic (compressed air or otherwise) bait launchers.

(iii) The State regulates certain species of finfish, shellfish, and crustacean (crab) using size or possession limits. You may not alter these species, to include cleaning or filleting, in such a way that we cannot determine its species or total length.

(iv) In order to fish after the refuge closes for the day, anglers must obtain an overnight fishing pass (name/address/phone) issued by the National Park Service. Anglers can obtain a pass in person at the National Park Service Tom's Cove Visitor Center.

(v) We allow the possession or use of only three surf fishing poles per licensed angler, and those poles must be attended at all times. This includes persons age 65 or older who are license-exempt in Virginia.

(c) Eastern Shore of Virginia National Wildlife Refuge—(1) Migratory game bird hunting. We allow hunting of waterfowl, rail, snipe, gallinule, coot, woodcock, dove, and crow on designated areas of the refuge subject to the following conditions:

(i) We allow holders of a signed refuge hunt brochure (signed brochure) to access areas of the refuge typically closed to the non-hunting public. All occupants of a vehicle or hunt party must possess a signed brochure and be actively engaged in hunting. We allow an exception for those persons aiding a disabled person who possesses a valid State-issued Commonwealth of Virginia Disabled Resident Lifetime License or Commonwealth of Virginia Resident Disabled Veteran's Lifetime License.

(ii) Hunters may enter the refuge no earlier than 2 hours prior to legal sunrise and must exit the refuge no later than 2 hours after legal sunset.

(iii) We allow the use of dogs while hunting consistent with State and Northampton County regulations on designated areas of the refuge.

(iv) We allow hunting on the refuge only from September 1 until February 28. Hunting will follow State seasons during that period.

(v) You may not hunt, discharge a firearm, or nock an arrow or crossbow bolt outside of designated hunt areas or within 100 feet (30.5 meters) of a building, road or improved trail.

(vi) We prohibit the use of permanent blinds and pit blinds. You must remove portable blinds and decoys at the end of each day's hunt.

(2) Upland game hunting. We allow hunting of rabbit, squirrel, quail, raccoon, opossum, fox, and coyote on designated areas of the refuge subject to the following conditions:

(i) The conditions set forth at paragraphs (c)(1)(i) through (v) of this section apply.

(ii) We prohibit the hunting of upland game at night.

(3) Big game hunting. We allow hunting of white-tailed deer and wild turkey on designated areas of the refuge subject to the following conditions:

(i) The conditions set forth at paragraphs (c)(1)(i), (ii), and (iv) through (v) of this section apply.

(ii) We allow turkey hunting during the spring season only for a mentor-led hunt.

(iii) We prohibit the possession or use of lead ammunition when hunting turkey.

(iv) We prohibit organized deer drives. We define a “deer drive” as an organized or planned effort to pursue, drive, chase, or otherwise frighten or cause deer to move in the direction of any person(s) who is part of the organized or planned hunt and known to be waiting for the deer.

(v) We allow the use of portable tree stands. We require removal of the stands after each day's hunt (see § 27.93 of this chapter).

(4) Sport fishing. We allow sport fishing on designated areas of the refuge subject to the following conditions:

(i) Anglers may access the refuge to fish from designated shore areas ½ hour before legal sunrise to ½ hour after legal sunset.

(ii) Anglers may access State waters via the Wise Point Boat Ramp on the refuge from 5 a.m. to 10 p.m.

* * * * *

(f) * * *

(1) * * *

(ii) We allow holders of a signed refuge hunt brochure (signed brochure) to access areas of the refuge typically closed to the non-hunting public. All occupants of a vehicle, boat, or hunt party must possess a signed brochure and be actively engaged in hunting. We allow an exception for those persons aiding a disabled person who possesses a valid State-issued Commonwealth of Virginia Disabled Resident Lifetime License or Commonwealth of Virginia Resident Disabled Veteran's Lifetime License.

* * * * *

(vi) We prohibit the possession or use of lead ammunition while hunting.

* * * * *

(h) * * *

(1) Migratory game bird hunting. We allow hunting of waterfowl on designated areas of the refuge subject to the following conditions:

(i) We allow waterfowl hunting only during the mentor-led hunts.

(ii) We allow the use of dogs while hunting consistent with State regulations.

* * * * *

(3) * * *

(ii) We require spring turkey hunters to obtain a refuge hunting permit (FWS Form 3-2439) through a lottery administered by a designated third-party vendor.

* * * * *

(iv) We prohibit the possession or use of lead ammunition when hunting spring wild turkey.

* * * * *

(j) * * *

(2) Upland game hunting. We allow hunting of coyote and fox on designated areas of the refuge subject to the following conditions:

(i) We only allow the incidental take of coyote and fox during the refuge deer hunting season.

(ii) We require the use of non-lead ammunition when hunting coyote and fox.

(3) * * *

(v) We require the use of non-lead ammunition when hunting wild turkey.

* * * * *

(m) * * *

(1) Migratory game bird hunting. We allow hunting of waterfowl on designated areas of the refuge subject to the following conditions:

(i) Hunters may only hunt waterfowl during designated days and times. The refuge provides dates for the waterfowl hunting season in the annual refuge hunt brochure.

(ii) In designated areas, we require hunters to possess and carry a refuge hunting permit (FWS Form 3-2439) obtained from a designated third-party vendor.

(iii) We allow the use of dogs while hunting consistent with State regulations.

* * * * *

(3) Big game hunting. We allow hunting of white-tailed deer and wild turkey on designated areas of the refuge subject to the following conditions:

(i) The conditions set forth at paragraphs (m)(1)(ii) and (m)(2)(i) of this section apply.

(ii) We prohibit the possession or use of lead ammunition when hunting spring wild turkey.

(iii) Hunters may enter the refuge no earlier than 1 hour prior to the start of legal shooting time and must exit the refuge no later than 1 hour after the end of legal shooting time.

(iv) We prohibit organized deer drives. We define a “deer drive” as an organized or planned effort to pursue, drive, chase, or otherwise frighten or cause deer to move in the direction of any person(s) who is part of the organized or planned hunt and known to be waiting for the deer.

* * * * *

(n) * * *

(1) Migratory game bird hunting. We allow hunting of waterfowl, rail, coot, snipe, gallinule, dove, woodcock, and crow on designated areas of the refuge subject to the following conditions:

(i) You must obtain and possess a signed refuge hunt brochure while hunting on the refuge.

(ii) You may access the refuge from 2 hours before legal sunrise until 2 hours after legal sunset.

(iii) We allow hunting during State seasons from September 16 to March 14.

(iv) We allow the use of dogs while hunting consistent with State regulations.

(v) We prohibit the use of permanent blinds and pit blinds. You must remove portable blinds and decoys at the end of each day's hunt (see § 27.93 of this chapter).

(2) Upland game hunting. We allow hunting of raccoon, opossum, fox, coyote, rabbit, and squirrel on designated areas of the refuge subject to the following conditions:

(i) The conditions set forth in paragraphs (n)(1)(i) and (iii) of this section apply.

(ii) We prohibit the hunting of upland game at night. You may access the refuge from 2 hours before legal sunrise until 2 hours after legal sunset.

(iii) We prohibit the use of pursuit dogs while hunting upland game.

(iv) You may not hunt, discharge a firearm, or nock an arrow or crossbow bolt within 100 feet (30.5 meters) of any building, road, or trail.

(3) Big game hunting. We allow hunting of white-tailed deer and wild turkey on designated areas of the refuge subject to the following conditions:

(i) The conditions set forth at paragraphs (n)(1)(i) and (n)(2)(iv) of this section apply.

(ii) We prohibit organized deer drives. We define a “deer drive” as an organized or planned effort to pursue, drive, chase, or otherwise frighten or cause deer to move in the direction of any person(s) who is part of the organized or planned hunt and known to be waiting for the deer.

(iii) We prohibit the use of pursuit dogs while hunting white-tailed deer and wild turkey.

(iv) We allow the use of portable tree stands, but you must remove them at the end of each day's hunt (see § 27.93 of this chapter).

(v) We allow limited hunting of turkey during designated State spring and fall seasons only when in the possession of a valid refuge turkey quota hunt permit.

* * * * *

18. Amend § 32.66 by revising paragraph (l)(3) to read as follows:

§ 32.66 Washington.

* * * * *

(l) * * *

(3) Big game hunting. We allow hunting of elk and turkey on designated areas of the refuge subject to the following conditions:

(i) Elk hunters must obtain a letter from the refuge manager assigning them a hunt unit.

(ii) Elk hunters may access the refuge no earlier than 2 hours before State legal shooting time and must leave no later than 5 hours after the end of State legal hunting hours.

(iii) Elk hunters not using approved nontoxic ammunition (see § 32.2(k)) must remove or bury the visceral remains of harvested animals.

(iv) We allow turkey hunting during the fall season only.

(v) We prohibit the possession or use of toxic shot by hunters using shotguns (see § 32.2(k)) when hunting turkey.

(vi) For turkey hunting, the condition set forth at paragraph (l)(1)(iv) of this section applies.

* * * * *

19. Amend § 32.68 by:

a. Revising paragraphs (a)(3), (b)(3)(i) through (iii), (b)(4), (d)(2)(ii), (d)(2)(viii), (d)(3)(i), and (d)(3)(iv);

b. Adding paragraph (d)(4)(iii);

c. Revising paragraphs (e)(1), (e)(3), and (e)(4);

d. Adding paragraphs (g)(1)(iii) through (v);

e. Revising paragraphs (g)(2)(i), (g)(3), (g)(4), (j)(1), and (j)(3); and

f. Adding paragraph (j)(4)(iii).

The revisions and additions read as follows:

§ 32.68 Wisconsin.

* * * * *

(a) * * *

(3) Big game hunting. We allow hunting of white-tailed deer on designated areas of the refuge subject to the following conditions:

(i) You must remove all boats, decoys, game cameras, blinds, blind materials, stands, platforms, and other personal equipment brought onto the refuge at the end of each day's hunt (see § 27.93 of this chapter). We prohibit hunting from any stand left up overnight.

(ii) Hunters may enter the refuge no earlier than 2 hours before legal shooting hours and must exit the refuge no later than 2 hours after legal shooting hours end.

(iii) Any ground blind used during any gun deer season must display at least 144 square inches (929 square centimeters) of solid, blaze-orange or fluorescent pink material visible from all directions.

* * * * *

(b) * * *

(3) * * *

(i) You must remove all boats, decoys, game cameras, blinds, blind materials, stands, platforms, and other personal equipment brought onto the refuge at the end of each day's hunt (see § 27.93 of this chapter). We prohibit hunting from any stand left up overnight.

(ii) Hunters may enter the refuge no earlier than 2 hours before legal shooting hours and must exit the refuge no later than 2 hours after legal shooting hours end.

(iii) Any ground blind used during any gun deer season must display at least 144 square inches (929 square centimeters) of solid, blaze-orange or fluorescent pink material visible from all directions.

* * * * *

(4) Sport fishing. We allow sport fishing on designated areas of the refuge subject to the following conditions:

(i) We only allow fishing from the shoreline; we prohibit fishing from docks, piers, and other structures.

(ii) We prohibit the taking of any mussel (clam), crayfish, frog, leech, or turtle species by any method on the refuge (see § 27.21 of this chapter).

* * * * *

(d) * * *

(2) * * *

(ii) We prohibit night hunting of upland game from 30 minutes after legal sunset until 30 minutes before legal sunrise the following day.

* * * * *

(viii) Hunters may enter the refuge no earlier than 2 hours before legal shooting hours and must exit the refuge no later than 2 hours after legal shooting hours.

* * * * *

(3) * * *

(i) You must remove all boats, decoys, game cameras, blinds, blind materials, stands, platforms, and other personal equipment brought onto the refuge at the end of each day's hunt (see § 27.93 of this chapter). We prohibit hunting from any stand left up overnight.

* * * * *

(iv) The condition set forth at paragraph (d)(2)(viii) applies.

* * * * *

(4) * * *

(iii) We prohibit the taking of any mussel (clam), crayfish, frog, leech, or turtle species by any method on the refuge (see § 27.21 of this chapter).

* * * * *

(e) * * *

(1) Migratory game bird hunting. We allow hunting of migratory game birds throughout the district, except that we prohibit hunting on the Blue Wing Waterfowl Production Area (WPA) in Ozaukee County and on the Wilcox WPA in Waushara County, subject to the following conditions:

(i) We allow the use of hunting dogs, provided the dog is under the immediate control of the hunter at all times.

(ii) You must remove all boats, decoys, game cameras, blinds, blind materials, stands, platforms, and other personal equipment brought onto the refuge at the end of each day's hunt (see § 27.93 of this chapter). We prohibit hunting from any stand left up overnight.

* * * * *

(3) Big game hunting. We allow hunting of big game throughout the district, except that we prohibit hunting on the Blue Wing WPA in Ozaukee County and on the Wilcox WPA in Waushara County, subject to the following conditions:

(i) Any ground blind used during any gun deer season must display at least 144 square inches (929 square centimeters) of solid, blaze-orange or fluorescent pink material visible from all directions.

(ii) The condition set forth at paragraph (e)(1)(ii) of this section applies.

(4) Sport fishing. We allow sport fishing on WPAs throughout the district subject to the following conditions.

(i) We prohibit the use of motorized boats while fishing.

(ii) We prohibit the taking of any mussel (clam), crayfish, frog, leech, or turtle species by any method on the refuge (see § 27.21 of this chapter).

* * * * *

(g) * * *

(1) * * *

(iii) We prohibit the use of motorized boats while hunting and fishing.

(iv) During the State-approved hunting season, we allow the use of hunting dogs, provided the dog is under the immediate control of the hunter at all times.

(v) You must remove all boats, decoys, game cameras, blinds, blind materials, stands, platforms, and other personal equipment brought onto the refuge at the end of each day's hunt (see § 27.93 of this chapter). We prohibit hunting from any stand left up overnight.

(2) * * *

(i) The conditions set forth at paragraphs (g)(1)(i) through (iv) of this section apply.

* * * * *

(3) Big game hunting. We allow hunting of big game on designated areas throughout the district subject to the following conditions:

(i) We prohibit hunting on designated portions of the St. Croix Prairie WPA and the Prairie Flats-South WPA in St. Croix County.

(ii) Any ground blind used during any gun deer season must display at least 144 square inches (929 square centimeters) of solid-blaze-orange or fluorescent pink material visible from all directions.

(iii) The conditions set forth at paragraphs (g)(1)(iii) through (v) of this section apply.

(4) Sport fishing. We allow sport fishing on WPAs throughout the district subject to the following conditions.

(i) We prohibit the taking of any mussel (clam), crayfish, frog, leech, or turtle species by any method on the refuge (see § 27.21 of this chapter).

(ii) The condition set forth at paragraph (g)(1)(iii) of this section applies.

* * * * *

(j) * * *

(1) Migratory game bird hunting. We allow hunting of waterfowl on designated areas of the refuge subject to the following conditions:

(i) You must remove all boats, decoys, game cameras, blinds, blind materials, stands, platforms, and other personal equipment brought onto the refuge at the end of each day's hunt (see § 27.93 of this chapter). We prohibit hunting from any stand left up overnight.

(ii) Hunters may enter the refuge no earlier than 2 hours before legal shooting hours and must exit the refuge no later than 2 hours after legal shooting hours end.

(iii) We prohibit the use of motorized boats while hunting and fishing.

* * * * *

(3) Big game hunting. We allow hunting of white-tailed deer on designated areas of the refuge subject to the following conditions:

(i) We allow archery deer hunting to take place on refuge lands owned by the Service that constitute tracts greater than 20 acres (8 hectares).

(ii) The conditions set forth at paragraphs (j)(1)(i) and (ii) of this section apply.

(4) * * *

(iii) The condition set forth at paragraph (j)(1)(iii) applies.

* * * * *

Shannon A. Estenoz,
Assistant Secretary for Fish and Wildlife and Parks.

[FR Doc. 2022-20078 Filed 9-15-22; 4:15 pm]

BILLING CODE 4333-15-P